OFFICE OF PERSONNEL MANAGEMENT

Excepted Service; Consolidated Listing of Schedules A, B, and C Exceptions

AGENCY: Office of Personnel Management.

ACTION: Notice.

SUMMARY: This gives a consolidated notice of all positions excepted under Schedules A, B, and C as of June 30, 2002, as required by Civil Service Rule VI, Exceptions from the Competitive Service.

SUPPLEMENTARY INFORMATION: Civil Service Rule VI (5 CFR 6.1) requires the Office of Personnel Management (OPM) to publish notice of all exceptions granted under Schedules A, B, and C. Title 5, Code of Federal Regulations, section 213.103(c), further requires that a consolidated listing, current as of June 30 of each year, be published annually as a notice in the Federal Register. That notice follows. OPM maintains continuing information on the status of all Schedule A, B, and C excepted appointing authorities. Interested parties needing information about specific authorities during the year may obtain information by writing to the Employment Service, Room 6500, Office of Personnel Management, 1900 E Street, NW., Washington, DC 20415, or by calling (202) 606-6500.

The following exceptions were current on June 30, 2002:

Schedule A

Section 213.3102 Entire Executive Civil Service

(a) Positions of Chaplain and Chaplain's Assistant.

(b) (Reserved).

(c) Positions to which appointments are made by the President without confirmation by the Senate.

(d) Attorneys.

(e) Law clerk trainee positions. Appointments under this paragraph shall be confined to graduates of recognized law schools or persons having equivalent experience and shall be for periods not to exceed 14 months pending admission to the bar. No person shall be given more than one appointment under this paragraph. However, an appointment that was initially made for less than 14 months may be extended for not to exceed 14 months in total duration.

(f) Chinese, Japanese, and Hindu interpreters.

(g) Any nontemporary position the duties of which are part-time or intermittent in which the appointee will receive compensation during his or her service year that aggregates not more than 40 percent of the annual salary rate for the first step of grade GS-3. This limited compensation includes any premium pay such as for overtime, night, Sunday, or holiday work. It does not, however, include any mandatory within-grade salary increases to which the employee becomes entitled subsequent to appointment under this authority. Appointments under this authority may not be for temporary project employment.

(h) Positions in Federal mental institutions when filled by persons who have been patients of such institutions and have been discharged and are certified by an appropriate medical authority thereof as recovered sufficiently to be regularly employed but it is believed desirable and in the interest of the persons and the institution that they be employed at the institution.

(i) Temporary and less-than-full time positions for which examining is impracticable. These are:

(1) Positions in remote/isolated locations where examination is impracticable. A remote/isolated location is outside of the local commuting area of a population center from which an employee can reasonably be expected to travel on short notice under adverse weather and/or road conditions which are normal for the area. For this purpose, a population center is a town with housing, schools, health care, stores and other businesses in which the servicing examining office can schedule tests and/or reasonably expect to attract applicants. An individual appointed under this authority may not be employed in the same agency under a combination of this and any other appointment to positions involving related duties and requiring the same qualifications for more than 1,040 working hours in a service year. Temporary appointments under this authority may be extended in 1-year increments, with no limit on the number of such extensions, as an exception to the service limits in § 213.104.

(2) Positions for which a critical hiring needs exists. This includes both short-term positions and continuing positions that an agency must fill on an interim basis pending completion of competitive examining, clearances, or other procedures required for a longer appointment. Appointments under this authority may not exceed 30 days and may be extended up to an additional 30 days if continued employment is essential to the agency's operations. The appointments may not be used to extend the service limit of any other appointing authority. An agency may not employ the same individual under this authority for more than 60 days in any 12-month period.

(3) Other positions for which OPM determines that examining is impracticable.

(j) Positions filled by current or former Federal employees eligible for placement under special statutory provisions. Appointments under this authority are subject to the following conditions:

(1) Eligible employees. (i) Persons previously employed as National Guard Technicians under 32 U.S.C. 709(a) who are entitled to placement under § 353.110 of this chapter, or who are applying for or receiving an annuity under the provisions of 5 U.S.C. 8337(h) or 5 U.S.C. 8456 by reason of a disability that disqualifies them from membership in the National Guard or from holding the military grade required as a condition of their National Guard employment;

(ii) Executive branch employees (other than employees of intelligence agencies) who are entitled to placement under § 353.110 but who are not eligible for reinstatement or noncompetitive appointment under the provisions of part 315 of this chapter.

(iii) Legislative and judicial branch employees and employees of the intelligence agencies defined in 5 U.S.C. 2302(a)(2)(C)(ii) who are entitled to placement assistance under § 353.110.

(2) Employees excluded. Employees who were last employed in Schedule C or under a statutory authority that specified the employee served at the discretion, will, or pleasure of the agency are not eligible for appointment under this authority.

(3) Position to which appointed. Employees who are entitled to placement under § 353.110 will be appointed to a position that OPM determines is equivalent in pay and grade to the one the individual left, unless the individual elects to be placed in a position of lower grade or pay. National Guard Technicians whose eligibility is based upon a disability may be appointed at the same grade, or equivalent, as their National Guard Technician position or at any lower grade for which they are available.

(4) Conditions of appointment. (i) Individuals whose placement eligibility is based on an appointment without time limit will receive appointments without time limit under this authority. These appointees may be reassigned, promoted, or demoted to any position within the same agency for which they qualify.

(ii) Individuals who are eligible for placement under § 353.110 based on a time-limited appointment will be given appointments for a time period equal to the unexpired portion of their previous appointment.

(k) Positions without compensation provided appointments thereto meet the requirements of applicable laws relating to compensation.

(l) Positions requiring the temporary or intermittent employment of professional, scientific, and technical experts for consultation purposes.

(m) (Reserved).

(n) Any local physician, surgeon, or dentist employed under contract or on a part-time or fee basis.

(o) Positions of a scientific, professional or analytical nature when filled by bona fide members of the faculty of an accredited college or university who have special qualifications for the positions to which appointed. Employment under this provision shall not exceed 130 working days a year.

(p)-(q) (Reserved).

(r) Positions established in support of fellowship and similar programs that are filled from limited applicant pools and operate under specific criteria developed by the employing agency and/or a non-Federal organization. These programs may include: internship or fellowship programs that provide developmental or professional experiences to individuals who have completed their formal education; training and associateship programs designed to increase the pool of qualified candidates in a particular occupational specialty; professional/industry exchange programs that provide for a cross-fertilization between the agency and the private sector to foster mutual understanding, an exchange of ideas, or to bring experienced practitioners to the agency; residency programs through which participants gain experience in a Federal clinical environment; and programs that require a period of Government service in exchange for educational, financial or other assistance. Appointment under this authority may not exceed 4 years.

(s) Positions with compensation fixed under 5 U.S.C. 5351-5356 when filled by student-employees assigned or attached to Government hospitals, clinics or medical or dental laboratories. Employment under this authority may not exceed 4 years.

(t) Positions when filled by mentally retarded persons in accordance with the guidance in Federal Personnel Manual chapter 306. Upon completion of 2 years of satisfactory service under this authority, the employee may qualify for conversion to competitive status under the provisions of Executive Order 12125 and implementing regulations issued by OPM.

(u) Positions when filled by severely physically handicapped persons who: (1) Under a temporary appointment have demonstrated their ability to perform the duties satisfactorily; or (2) have been certified by counselors of State vocational rehabilitation agencies or the Veterans Administration as likely to succeed in the performance of the duties. Upon completion of 2 years of satisfactory service under this authority, the employee may qualify for conversion to competitive status under the provisions of Executive Order 12125 and implementing regulations issued by OPM.

(v)-(w) (Reserved).

(x) Positions for which a local recruiting shortage exists when filled by inmates of Federal, District of Columbia, and State (including the Commonwealth of Puerto Rico, the Virgin Islands, Guam, American Samoa, and the Trust Territory of the Pacific Islands) penal and correctional institutions under work-release programs authorized by the Prisoner Rehabilitation Act of 1965, the District of Columbia Work Release Act, or under work-release programs authorized by the States. Initial appointments under this authority may not exceed 1 year. An initial appointment may be extended for one or more periods not to exceed 1 additional year each upon a finding that the inmate is still in a work-release status and that a local recruiting shortage still exists. No person may serve under this authority longer than 1 year beyond the date of that person's release from custody.

(y) (Reserved).

(z) Not to exceed 30 positions of assistants to top-level Federal officials when filled by persons designated by the President as White House Fellows.

(aa) Scientific and professional research associate positions at GS-11 and above when filled on a temporary basis by persons having a doctoral degree in an appropriate field of study for research activities of mutual interest to appointees and their agencies. Appointments are limited to persons referred by the National Research Council under its post-doctoral research associate program, may not exceed 2 years, and are subject to satisfactory outcome of evaluation of the associate's research during the first year.

(bb) Positions when filled by aliens in the absence of qualified citizens. Appointments under this authority are subject to prior approval of OPM except when the authority is specifically included in a delegated examining agreement with OPM.

(cc)-(ee) (Reserved).

(ff) Not to exceed 25 positions when filled in accordance with an agreement between OPM and the Department of Justice by persons in programs administered by the Attorney General of the United States under Public Law 91-452 and related statutes. A person appointed under this authority may continue to be employed under it after he/she ceases to be in a qualifying program only as long as he/she remains in the same agency without a break in service.

(gg)-(hh) (Reserved).

(ii) Positions of Presidential Intern, GS-9 and 11, in the Presidential Management Intern Program. Initial appointments must be made at the GS-9 level. No one may serve under this authority for more than 2 years, unless extended with OPM approval for up to 1 additional year. Upon completion of 2 years of satisfactory service under this authority, the employee may qualify for conversion to competitive appointment under the provisions of Executive order 12364, in accordance with requirements published in the Federal Personnel Manual.

(jj-kk) (Reserved).

(ll) Positions as needed of readers for blind employees, interpreters for deaf employees and personal assistants for handicapped employees, filled on a full time, part-time, or intermittent basis.

Section 213.3103 Executive Office of the President

(a) Office of Administration. (1) Not to exceed 75 positions to provide administrative services and support to the White House office.

(b) Office of Management and Budget. (1) Not to exceed 15 positions at grades

GS-5/15.

(c) Council on Environmental Quality. (1) Professional and technical positions in grades GS-9 through 15 on the staff of the Council.

(d)-(f) (Reserved).

(g) National Security Council. (1) All positions on the staff of the Council.

(h) Office of Science and Technology Policy. (1) Thirty positions of Senior Policy Analyst, GS-15; Policy Analyst, GS-11/14; and Policy Research Assistant, GS-9, for employment of anyone not to exceed 5 years on projects of a high priority nature.

(i) Office of National Drug Control Policy. (1) Not to exceed 15 positions, GS-15 and below, of senior policy analysts and other personnel with expertise in drug-related issues and/or technical knowledge to aid in anti-drug abuse efforts.

Section 213.3104 Department of State

(a) Office of the Secretary. (1) All positions, GS-15 and below, on the staff of the Family Liaison Office, Director General of the Foreign Service and the Director of Personnel, Office of the Under Secretary for Management.

(2) One position of Museum Curator (Arts), in the Office of the Under Secretary for Management, whose incumbent will serve as Director, Diplomatic Reception Rooms. No new appointments may be made after February 28, 1997.

(b) American Embassy, Paris, France. (1) Chief, Travel and Visitor Unit. No new appointments may be made under this authority after August 10, 1981.

(c)-(f) (Reserved).

(g) Bureau of Population, Refugees, and Migration. (1) Not to exceed 10 positions at grades GS-5 through 11 on the staff of the Bureau.

(h) Bureau of Administration. (1) One Presidential Travel Officer. No new appointments may be made under this authority after June 11, 1981.

(2) One position of the Director, Art in Embassies Program, GM-1001-15.

Section 213.3105 Department of the Treasury

(a) Office of the Secretary. (1) Not to exceed 20 positions at the equivalent of GS-13 through GS-17 to supplement permanent staff in the study of complex problems relating to international financial, economic, trade, and energy policies and programs of the Government, when filled by individuals with special qualifications for the particular study being undertaken. Employment under this authority may not exceed 4 years.

(2) Not to exceed 20 positions, which will supplement permanent staff involved in the study and analysis of complex problems in the area of domestic economic and financial policy. Employment under this authority may not exceed 4 years.

(3) Not to exceed 50 positions in the Office of the Under Secretary (Enforcement).

(b) U.S. Customs Service. (1) Positions in foreign countries designated as “interpreter-translator” and “special employees,” when filled by appointment of persons who are not citizens of the United States; and positions in foreign countries of messenger and janitor.

(2)-(5) (Reserved).

(6) Three hundred positions of Criminal Investigator for special assignments and 10 positions for oversight policy and direction of sensitive law enforcement activities.

(7)-(8) (Reserved).

(9) Not to exceed 25 positions of Customs Patrol Officers in the Papago Indian Agency in the State of Arizona when filled by the appointment of persons of one-fourth or more Indian blood.

(c) (Reserved).

(d) Office of Thrift Supervision. (1) All positions in the supervision policy and supervision operations functions of OTS. No new appointments may be made under this authority after December 31, 1993.

(e) Internal Revenue Service. (1) Twenty positions of investigator for special assignments.

(f) (Reserved).

(g) Bureau of Alcohol, Tobacco, and Firearms. (1) One hundred positions of criminal investigator for special assignments.

(2) One non-permanent Senior Level (SL) Criminal Investigator to serve as a senior advisor to the Assistant Director (Firearms, Explosives, and Arson).

Section 213.3106 Department of Defense

(a) Office of the Secretary. (1)-(5) (Reserved).

(6) One Executive Secretary, US-USSR Standing Consultative Commission and Staff Analyst (SALT), Office of the Assistant Secretary of Defense (International Security Affairs).

(b) Entire Department (including the Office of the Secretary of Defense and the Departments of the Army, Navy, and Air Force).

(1) Professional positions in Military Dependent School Systems overseas.

(2) Positions in attaché 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the Department of Defense when filled by dependents of military or civilian employees of the U.S. Government residing in the area. Employment under this authority may not extend longer than 2 months following the transfer from the area or separation of a dependent's sponsor: Provided, that (i) a school employee may be permitted to complete the school year; and (ii) an employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR Part 302 are consistent with the education and experience standards established for comparable positions in the competitive service. Appointments under this authority may not be used to extend the service limits contained in any other appointing authority.

(c) (Reserved).

(d) General. (1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences.

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University. (1) Not to exceed 16 positions of senior policy analyst, GS-15, at the Strategic Concepts Development Center. Initial appointments to these positions may not exceed 6 years, but may be extended thereafter in 1-, 2-, or 3-year increments, indefinitely.

(g) Defense Communications Agency. (1) Not to exceed 10 positions at grades GS-10/15 to staff and support the Crisis Management Center at the White House.

(h) Defense Acquisitions University. (1) The Provost and professors.

(i) George C. Marshall European Center for Security Studies, Garmisch, Germany.

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii. (1) The Director, Deputy Director, Dean of Academics, Director of College, deputy department chairs, and senior positions of professor, associate professor, and research fellow within the Asia Pacific Center. Appointments may be made not to exceed 3 years and may be extended for periods not to exceed 3 years.

Section 213.3107 Department of the Army

(a)-(c) (Reserved).

(d) U.S. Military Academy, West Point, New York. (1) Civilian professors, instructors, teachers (except teachers at the Children's School), Cadet Social Activities Coordinator, Chapel Organist and Choir-Master, Director of Intercollegiate Athletics, Associate Director of Intercollegiate Athletics, coaches, Facility Manager, Building Manager, three Physical Therapists (Athletic Trainers), Associate Director of Admissions for Plans and Programs, Deputy Director of Alumni Affairs; and librarian when filled by an officer of the Regular Army retired from active service, and the military secretary to the Superintendent when filled by a U.S. Military Academy graduate retired as a regular commissioned officer for disability.

(e)-(f) (Reserved).

(g) Defense Language Institute. (1) All positions (professors, instructors, lecturers) which require proficiency in a foreign language or a knowledge of foreign language teaching methods.

(h) Army War College, Carlisle Barracks, PA. (1) Positions of professor, instructor, or lecturer associated with courses of instruction of at least 10 months duration for employment not to exceed 5 years, which may be renewed in 1-, 2-, 3-, 4-, or 5-year increments indefinitely thereafter.

(i) (Reserved).

(j) U.S. Military Academy Preparatory School, Fort Monmouth, New Jersey. (1) Positions of Academic Director, Department Head, and Instructor.

(k) U.S. Army Command and General Staff College, Fort Leavenworth, Kansas. (1) Positions of professor, associate professor, assistant professor, and instructor associated with courses of instruction of at least 10 months duration, for employment not to exceed up to 5 years, which may be renewed in 1, 2, 3, 4, or 5-year increments indefinitely thereafter.

Section 213.3108 Department of the Navy

(a) General. (1)-(14) (Reserved).

(15) Marine positions assigned to a coastal or seagoing vessel operated by a naval activity for research or training purposes.

(16) All positions necessary for the administration and maintenance of the official residence of the Vice President.

(b) Naval Academy, Naval Postgraduate School, and Naval War College. (1) Professors, instructors, and teachers; the Director of Academic Planning, Naval Postgraduate School; and the Librarian, Organist-Choirmaster, Registrar, the Dean of Admissions, and social counselors at the Naval Academy.

(c) Chief of Naval Operations. (1) One position at grade GS-12 or above that will provide technical, managerial, or administrative support on highly classified functions to the Deputy Chief of Naval Operations (Plans, Policy, and Operations).

(d) Military Sealift Command. (1) All positions on vessels operated by the Military Sealift Command.

(e) Pacific Missile Range Facility, Barking Sands, Hawaii. (1) All positions. This authority applies only to positions that must be filled pending final decision on contracting of Facility operations. No new appointments may be made under this authority after July 29, 1988.

(f) (Reserved).

(g) Office of Naval Research. (1) Scientific and technical positions, GS/GM-13/15, in the Office of Naval Research Asian Office in Tokyo, Japan, which covers East Asia, New Zealand and Australia. Positions are to be filled by personnel having specialized experience in scientific and/or technical disciplines of current interest to the Department of the Navy.

Section 213.3109 Department of the Air Force

(a) Office of the Secretary. (1) One Special Assistant in the Office of the Secretary of the Air Force. This position has advisory rather than operating duties except as operating or administrative responsibilities may be exercised in connection with the pilot studies.

(b) General. (1) Professional, technical, managerial and administrative positions supporting space activities, when approved by the Secretary of the Air Force.

(2) One hundred forty positions, serviced by Hill Air Force Base, Utah, engaged in interdepartmental activities in support of national defense projects involving scientific and technical evaluations.

(c) Not to exceed 20 professional positions, GS-11 through GS-15, in Detachments 6 and 51, SM-ALC, Norton and McClellan Air Force Bases, California, which will provide logistic support management to specialized research and development projects.

(d) U.S. Air Force Academy, Colorado. (1) (Reserved).

(2) Positions of Professor, Associate Professor, Assistant Professor, and Instructor, in the Dean of Faculty, Commandant of Cadets, Director of Athletics, and Preparatory School of the United States Air Force Academy.

(e) (Reserved).

(f) Air Force Office of Special Investigations. (1) Positions of Criminal Investigators/Intelligence Research Specialists, GS-5 through GS-15, in the Air Force Office of Special Investigations.

(g) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama. (1) Positions of Professor, Instructor, or Lecturer.

(i) Air Force Institute of Technology, Wright-Patterson Air Force Base, Ohio. (1) Civilian deans and professors.

(j) Air Force Logistics Command. (1) One Supervisory Logistics Management Specialist, GM-346-14, in Detachment 2, 2762 Logistics Management Squadron (Special), Greenville, Texas.

(k) One position of Supervisory Logistics Management Specialist, GS-346-15, in the 2762nd Logistics Squadron (Special), at Wright-Patterson Air Force Base, Ohio.

(1) One position of Commander, Air National Guard Readiness Center, Andrews Air Force Base, Maryland.

Section 213.3110 Department of Justice

(a) General. (1) Deputy U.S. Marshals employed on an hourly basis for intermittent service.

(2) Positions at GS-15 and below on the staff of an office of a special counsel.

(3)-(5) (Reserved).

(6) Positions of Program Manager and Assistant Program Manager supporting the International Criminal Investigative Training Assistance Program in foreign countries. Initial appointments under this authority may not exceed 2 years, but may be extended for an additional period not to exceed 2 years.

(b) Immigration and Naturalization Service. (1) (Reserved).

(2) Not to exceed 500 positions of interpreters and language specialists, GS-1040-5/9.

(3) Not to exceed 25 positions, GS-15 and below, with proficiency in speaking, reading, and writing the Russian language and serving in the Soviet Refugee Processing Program with permanent duty location in Moscow, Russia.

(c) Drug Enforcement Administration. (1) (Reserved).

(2) Four hundred positions of Intelligence Research Agent and/or Intelligence Operation Specialist in the GS-132 series, grades GS-9 through GS-15.

(3) Not to exceed 200 positions of Criminal Investigator (Special Agent). New appointments may be made under this authority only at grades GS-7/11.

(d) National Drug Intelligence Center. All positions.

Section 213.3112 Department of the Interior

(a) General. (1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved).

(c) Indian Arts and Crafts Board. (1) The Executive Director.

(d) (Reserved).

(e) Office of the Assistant Secretary, Territorial and International Affairs. (1) (Reserved).

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved).

(4) Special Assistants to the Governor of American Samoa who perform specialized administrative, professional, technical, and scientific duties as members of his or her immediate staff.

(f) National Park Service. (1) (Reserved).

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation. (1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs. (1) Positions of Territorial Management Interns, GS-5, when filled by persons selected by the Government of the Trust Territory of the Pacific Islands. No appointment may extend beyond 1 year.

Section 213.3113 Department of Agriculture

(a) General. (1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved).

(5) Temporary, intermittent, or seasonal employment in the field service of the Department in positions at and below GS-7 and WG-10 in the following types of positions: Field assistants for subprofessional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of § 213.3102 or positions within the Forest Service.

(6)-(7) (Reserved).

(b)-(c) (Reserved).

(d) Farm Service Agency. (1) (Reserved).

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development. (1) (Reserved).

(2) County committeemen to consider, recommend, and advise with respect to the Rural Development program.

(3)-(5) (Reserved).

(6) Professional and clerical positions in the Trust Territory of the Pacific Islands when occupied by indigenous residents of the Territory to provide financial assistance pursuant to current authorizing statutes.

(f) Agricultural Marketing Service. (1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, and processed fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators.

(4) All positions on the staffs of the Milk Market Administrators.

(g)-(k) (Reserved).

(l) Food Safety and Inspection Service. (1)-(2) (Reserved).

(3) Positions of meat and poultry inspectors (veterinarians at GS-11 and below and nonveterinarians at appropriate grades below GS-11) for employment on a temporary, intermittent, or seasonal basis, not to exceed 1,280 hours a year.

(m) Grain Inspection, Packers and Stockyards Administration. (1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation. (1) Executive Director.

Section 213.3114 Department of Commerce

(a) General. (1)-(2) (Reserved).

(3) Not to exceed 50 scientific and technical positions whose duties are performed primarily in the Antarctic. Incumbents of these positions may be stationed in the continental United States for periods of orientation, training, analysis of data, and report writing.

(b)-(c) (Reserved).

(d) Bureau of the Census. (1) Managers, supervisors, technicians, clerks, interviewers, and enumerators in the field service, for time-limited employment to conduct a census.

(2) Current Program Interviewers employed in the field service.

(e)-(h) (Reserved).

(i) Office of the Under Secretary for International Trade. (1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved).

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period of not to exceed 2 years and may, with prior approval of OPM, be extended for an additional period of 2 years.

(j) National Oceanic and Atmospheric Administration. (1)-(2) (Reserved).

(3) All civilian positions on vessels operated by the National Ocean Service.

(4) Temporary positions required in connection with the surveying operations of the field service of the National Ocean Service. Appointment to such positions shall not exceed 8 months in any 1 calendar year.

(k) (Reserved).

(l) National Telecommunication and Information Administration. (1) Seventeen professional positions in grades GS-13 through GS-15.

Section 213.3115 Department of Labor

(a) Office of the Secretary. (1) Chairman and five members, Employees' Compensation Appeals Board.

(2) Chairman and eight members, Benefits Review Board.

(b)-(c) (Reserved).

(d) Employment and Training Administration. (1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

Section 213.3116 Department of Health and Human Services

(a) General. (1) Intermittent positions, at GS-15 and below and WG-10 and below, on teams under the National Disaster Medical System including Disaster Medical Assistance Teams and specialty teams, to respond to disasters, emergencies, and incidents/events involving medical, mortuary and public health needs.

(b) Public Health Service. (1) (Reserved).

(2) Positions at Government sanatoria when filled by patients during treatment or convalescence.

(3) (Reserved).

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved).

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved).

(10) Health care positions of the National Health Service Corps for employment of any one individual not to exceed 4 years of service in health manpower shortage areas.

(11)-(14) (Reserved).

(15) Not to exceed 200 staff positions, GS-15 and below, in the Immigration Health Service, for an emergency staff to provide health related services to foreign entrants.

(c)-(e) (Reserved).

(f) The President's Council on Physical Fitness. (1) Four staff assistants.

Section 213.3117 Department of Education

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

Section 213.3124 Board of Governors, Federal Reserve System

(a) All positions.

Section 213.3127 Department of Veterans Affairs

(a) Construction Division. (1) Temporary construction workers paid from “purchase and hire” funds and appointed for not to exceed the duration of a construction project.

(b) Not to exceed 400 positions of rehabilitation counselors, GS-3 through GS-11, in Alcoholism Treatment Units and Drug Dependence Treatment Centers, when filled by former patients.

(c) Board of Veterans' Appeals. (1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Not to exceed 600 positions at grades GS-3 through GS-11, involved in the Department's Vietnam Era Veterans Readjustment Counseling Service.

Section 213.3128 Broadcasting Board of Governors

(a) International Broadcasting Bureau. (1) Not to exceed 200 positions at grades GS-15 and below in the Office of Cuba Broadcasting. Appointments may not be made under this authority to administrative, clerical, and technical support positions.

Section 213.3132 Small Business Administration

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office approval. Appointments under this authority may not be used to extend the 2-year service limit contained in paragraph (b) below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

Section 213.3133 Federal Deposit Insurance Corporation

(a)-(b) (Reserved).

(c) Temporary positions located at closed banks or savings and loan institutions that are concerned with liquidating the assets of the institutions, liquidating loans to the institutions, or paying the depositors of closed insured institutions. New appointments may be made under this authority only during the 60 days immediately following the institution's closing date. Such appointments may not exceed 1 year, but may be extended for not to exceed 1 additional year.

Section 213.3136 U.S. Soldiers' and Airmen's Home

(a) (Reserved).

(b) Positions when filled by member-residents of the Home.

Section 213.3146 Selective Service System

(a) State Directors.

Section 213.3148 National Aeronautics and Space Administration

(a) One hundred and fifty alien scientists having special qualifications in the fields of aeronautical and space research where such employment is deemed by the Administrator of the National Aeronautics and Space Administration to be necessary in the public interest.

Section 213.3155 Social Security Administration

(a) Six positions of Social Insurance Representative in the district offices of the Social Security Administration in the State of Arizona when filled by the appointment of persons of one-fourth or more Indian blood.

(b) Seven positions of Social Insurance Representative in the district offices of the Social Security Administration in the State of New Mexico when filled by the appointment of persons of one-fourth or more Indian blood.

(c) Two positions of Social Insurance Representative in the district offices of the Social Security Administration in the State of Alaska when filled by the appointments of persons of one-fourth or more Alaskan Native blood (Eskimos, Indians, or Aleuts).

Section 213.3162 The President's Crime Prevention Council

(a) Up to 7 positions established in the President's Crime Prevention Council office created by the Violent Crime Control and Law Enforcement Act of 1994. No new appointments may be made under this authority after March 31, 1998.

Section 213.3165 Chemical Safety and Hazard Investigation Board

(a) Up to 37 positions established to create the Chemical Safety and Hazard Investigation Board. No new appointments may be made under this authority after December 31, 2000.

(b) Six positions of either Chemical Incident Investigators or Chemical Safety Recommendation Specialists, in the Office of Investigations and Safety Programs. No new appointments may be made under this authority after September 30, 2002.

Section 213.3166 Court Services and Offender Supervision Agency of the District of Columbia

(a) All positions, except for the Director, established to create the Court Services and Offender Supervision Agency of the District of Columbia. No new appointments may be made under this authority after September 30, 2002.

Section 213.3174 Smithsonian Institution

(a) (Reserved).

(b) All positions located in Panama which are part of or which support the Smithsonian Tropical Research Institute.

(c) Positions at GS-15 and below in the National Museum of the American Indian requiring knowledge of, and experience in, tribal customs and culture. Such positions comprise approximately 10 percent of the Museum's positions and, generally, do not include secretarial, clerical, administrative, or program support positions.

Section 213.3175 Woodrow Wilson International Center for Scholars

(a) One Asian Studies Program Administrator, one International Security Studies Program Administrator, one Latin American Program Administrator, one Russian Studies Program Administrator, one West European Program Administrator, one Environmental Change & Security Studies Program Administrator, one United States Studies Program Administrator, and two Social Science Program Administrators.

Section 213.3178 Community Development Financial Institutions Fund

(a) All positions in the Fund and positions created for the purpose of establishing the Fund's operations in accordance with the Community Development Banking and Financial Institutions Act of 1994, except for any positions required by the Act to be filled by competitive appointment. No new appointments may be made under this authority after September 23, 1998.

Section 213.3180 Utah Reclamation and Conservation Commission

(a) Executive Director.

Section 213.3182 National Foundation on the Arts and the Humanities

(a) National Endowment for the Arts. (1) Artistic and related positions at grades GS-13 through GS-15 engaged in the review, evaluation and administration of applications and grants supporting the arts, related research and assessment, policy and program development, arts education, access programs and advocacy or evaluation of critical arts projects and outreach programs. Duties require artistic stature, in-depth knowledge of arts disciplines and/or artistic-related leadership qualities.

Section 213.3190 African Development Foundation

(a) One Enterprise Development Fund Manager. Appointment authority is limited to four years unless extended by the Office.

Section 213.3191 Office of Personnel Management

(a)-(c) (Reserved).

(d) Part-time and intermittent positions of test examiners at grades GS-8 and below.

Section 213.3194 Department of Transportation

(a) U.S. Coast Guard. (1) (Reserved).

(2) Lamplighters.

(3) Professors, Associate Professors, Assistant Professors, Instructors, one Principal Librarian, one Cadet Hostess, and one Psychologist (Counseling) at the Coast Guard Academy, New London, Connecticut.

(b)-(d) (Reserved).

(e) Maritime Administration. (1)-(2) (Reserved).

(3) All positions on Government-owned vessels or those bareboats chartered to the Government and operated by or for the Maritime Administration.

(4)-(5) (Reserved).

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

Section 213.3195 Federal Emergency Management Agency

(a) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort.

(b) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority.

(c) Not to exceed 350 professional and technical positions at grades GS-5 through GS-15, or equivalent, in Mobile Emergency Response Support Detachments (MERS).

Section 213.3199 Temporary Organizations

(a) Positions on the staffs of temporary boards and commissions which are established by law or Executive order for specified periods not to exceed 4 years to perform specific projects. A temporary board or commission originally established for less than 4 years and subsequently extended may continue to fill its staff positions under this authority as long as its total life, including extension(s), does not exceed 4 years. No board or commission may use this authority for more than 4 years to make appointments and position changes unless prior approval of the Office is obtained.

(b) Positions on the staffs of temporary organizations established within continuing agencies when all of the following conditions are met: (1) The temporary organization is established by an authority outside the agency, usually by law or Executive order; (2) the temporary organization is established for an initial period of 4 years or less and, if subsequently extended, its total life including extension(s) will not exceed 4 years; (3) the work to be performed by the temporary organization is outside the agency's continuing responsibilities; and (4) the positions filled under this authority are those for which other staffing resources or authorities are not available within the agency. An agency may use this authority to fill positions in organizations which do not meet all of the above conditions or to make appointments and position changes in a single organization during a period longer than 4 years only with prior approval of the Office.

Schedule B

Section 213.3202 Entire Executive Civil Service

(a) Student Educational Employment Program—Student Temporary Employment Program. (1) Students may be appointed to the Student Temporary Employment Program if they are pursuing any of the following educational programs:

(i) High School Diploma or General Equivalency Diploma (GED);

(ii) Vocational/Technical certificate;

(iii) Associate degree;

(iv) Baccalaureate degree;

(v) Graduate degree; or

(vi) Professional degree

* * * * *

(The remaining text of provisions pertaining to the Student Temporary Employment Program can be found in 5 CFR 213.3202(a).)

(b) Student Educational Employment Program—Student Career Experience Program. (1)(i) Students may be appointed to the Student Career Experience Program if they are pursuing any of the following educational programs:

(A) High school diploma or General Equivalency Diploma (GED);

(B) Vocational/Technical certificate;

(C) Associate degree;

(D) Baccalaureate degree;

(E) Graduate degree; or

(F) Professional degree.

(ii) Student participants in the Harry S. Truman Foundation Scholarship Program under the provision of Public Law 93-842 are eligible for appointments under the Student Career Experience Program.

[The remaining text of provisions pertaining to the Student Career Experience Program can be found in 5 CFR 213.3202(b).]

* * * * *

(c)-(i) (Reserved).

(j) Special executive development positions established in connection with Senior Executive Service candidate development programs which have been approved by OPM. A Federal agency may make new appointments under this authority for any period of employment not exceeding 3 years for one individual.

(k) Positions at grades GS-15 and below when filled by individuals who (1) are placed at a severe disadvantage in obtaining employment because of a psychiatric disability evidenced by hospitalization or outpatient treatment and have had a significant period of substantially disrupted employment because of the disability; and (2) are certified to a specific position by a State vocational rehabilitation counselor or a Veterans Administration counseling psychologist (or psychiatrist) who indicates that they meet the severe disadvantage criteria stated above, that they are capable of functioning in the positions to which they will be appointed, and that any residual disability is not job related. Employment of any individual under this authority may not exceed 2 years following each significant period of mental illness.

(l) (Reserved).

(m) Positions when filled under any of the following conditions: (1) Appointment at grades GS-15 and above, or equivalent, in the same or a different agency without a break in service from a career appointment in the Senior Executive Service (SES) of an individual who:

(i) Has completed the SES probationary period;

(ii) Has been removed from the SES because of less than fully successful executive performance or a reduction in force; and

(iii) Is entitled to be placed in another civil service position under 5 U.S.C. 3594(b).

(2) Appointment in a different agency without a break in service of an individual originally appointed under paragraph (m)(1).

(3) Reassignment, promotion, or demotion within the same agency of an individual appointed under this authority.

(n) Positions when filled by preference eligibles or veterans who have been separated from the armed forces under honorable conditions after 3 years or more of continuous active service and who, in accordance with 5 U.S.C. 3304(f) (Pub. L. 105-339), applied for these positions under merit promotion procedures when applications were being accepted by the agency from individuals outside its own workforce. These veterans may be promoted, demoted, or reassigned, as appropriate, to other positions within the agency but would remain employed under this excepted authority as long as there is no break in service. No new appointments may be made under this authority after November 30, 1999.

Section 213.3203 Executive Office of the President

(a) (Reserved).

(b) Office of the Special Representative for Trade Negotiations. (1) Seventeen positions of economist at grades GS-12 through GS-15.

Section 213.3204 Department of State

(a)-(c) (Reserved).

(d) Fourteen positions on the household staff of the President's Guest House (Blair and Blair-Lee Houses).

(e) (Reserved).

(f) Scientific, professional, and technical positions at grades GS-12 to GS-15 when filled by persons having special qualifications in foreign policy matters. Total employment under this authority may not exceed 4 years.

Section 213.3205 Department of the Treasury

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved).

(d) Positions concerned with the protection of the life and safety of the President and members of his immediate family, or other persons for whom similar protective services are prescribed by law, when filled in accordance with special appointment procedures approved by OPM. Service under this authority may not exceed (1) a total of 4 years; or (2) 120 days following completion of the service required for conversion under Executive Order 11203, whichever comes first.

(a) Positions, grades GS-5 through 12, of Treasury Enforcement Agent in the Bureau of Alcohol, Tobacco, and Firearms; and Treasury Enforcement Agent, Pilot, Marine Enforcement Officer, and Aviation Enforcement Officer in the U.S. Customs Service. Service under this authority may not exceed 3 years and 120 days.

Section 213.3206 Department of Defense

(a) Office of the Secretary. (1) (Reserved).

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved).

(5) Four Net Assessment Analysts.

(b) Interdepartmental activities. (1) Five positions to provide general administration, general art and information, photography, and/or visual information support to the White House Photographic Service.

(2) Eight positions, GS-15 or below, in the White House Military Office, providing support for airlift operations, special events, security, and/or administrative services to the Office of the President.

(c) National Defense University. (1) Sixty-one positions of Professor, GS-13/15, for employment of any one individual on an initial appointment not to exceed 3 years, which may be renewed in any increment from 1 to 6 years indefinitely thereafter.

(d) General. (1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General. (1) Positions of Criminal Investigator, GS-1811-5/15.

(f) Department of Defense Polygraph Institute, Fort McClellan, Alabama. (1) One Director, GM-15.

(g) Defense Security Assistance Agency. All faculty members with instructor and research duties at the Defense Institute of Security Assistance Management, Wright Patterson Air Force Base, Dayton, Ohio. Individual appointments under this authority will be for an initial 3-year period, which may be followed by an appointment of indefinite duration.

Section 213.3207 Department of the Army

(a) U.S. Army Command and General Staff College. (1) Seven positions of professors, instructors, and education specialists. Total employment of any individual under this authority may not exceed 4 years.

Section 213.3208 Department of the Navy

(a) Naval Underwater Systems Center, New London, Connecticut. One position of Oceanographer, grade GS-14, to function as project director and manager for research in the weapons systems applications of ocean eddies.

(b) All civilian faculty positions of professors, instructors, and teachers on the staff of the Armed Forces Staff College, Norfolk, Virginia.

(c) One Director and four Research Psychologists at the professor or GS-15 level in the Defense Personnel Security Research and Education Center.

(d) All civilian professor positions at the Marine Corps Command and Staff College.

(e) One position of Staff Assistant, GS-301-15, whose incumbent will manage the Navy's Executive Dining facilities at the Pentagon.

(f) One position of Housing Management Specialist, GM-1173-14, involved with the Bachelor Quarters Management Study. No new appointments may be made under this authority after February 29, 1992.

Section 213.3209 Department of the Air Force

(a) Not to exceed four interdisciplinary positions for the Air Research Institute at the Air University, Maxwell Air Force Base, Alabama, for employment to complete studies proposed by candidates and acceptable to the Air Force. Initial appointments are made not to exceed 3 years, with an option to renew or extend the appointments in increments of 1, 2, or 3 years indefinitely thereafter.

(b)-(c) (Reserved).

(d) Positions of Instructor or professional academic staff at the Air University, associated with courses of instruction of varying durations, for employment not to exceed 3 years, which may be renewed for an indefinite period thereafter.

(e) One position of Director of Development and Alumni Programs, GS-301-13, with the U.S. Air Force Academy, Colorado.

Section 213.3210 Department of Justice

(a) Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved).

(c) Not to exceed 400 positions at grades GS-5 through 15 assigned to regional task forces established to conduct special investigations to combat drug trafficking and organized crime.

(d) (Reserved).

(e) Positions, other than secretarial, GS-6 through GS-15, requiring knowledge of the bankruptcy process, on the staff of the offices of United States Trustees or the Executive Office for U.S. Trustees.

Section 213.3213 Department of Agriculture

(a) Foreign Agricultural Service. (1) Positions of a project nature involved in international technical assistance activities. Service under this authority may not exceed 5 years on a single project for any individual unless delayed completion of a project justifies an extension up to but not exceeding 2 years.

(b) General. (1) Temporary positions of professional Research Scientists, GS-15 or below, in the Agricultural Research Service and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Personnel Officer, Agricultural Research Service, or the Personnel Officer, Forest Service.

(2) Not to exceed 55 Executive Director positions, GM-301-14/15, with the State Rural Development Councils in support of the Presidential Rural Development Initiative.

Section 213.3214 Department of Commerce

(a) Bureau of the Census. (1) (Reserved).

(2) Not to exceed 50 Community Services Specialist positions at the equivalent of GS-5 through GS-12.

(3) (Reserved).

(b)-(c) (Reserved).

(d) National Telecommunications and Information Administration. (1) Not to exceed 10 positions of Telecommunications Policy Analysts, grades GS-11 through 15. Employment under this authority may not exceed 2 years.

Section 213.3215 Department of Labor

(a) Chairman, two Members, and one Alternate Member, Administrative Review Board.

(b) (Reserved).

(c) Bureau of International Labor Affairs. (1) Positions in the Office of Foreign Relations, which are paid by outside funding sources under contracts for specific international labor market technical assistance projects. Appointments under this authority may not be extended beyond the expiration date of the project.

Section 213.3217 Department of Education

(a) Seventy-five positions, not in excess of GS-13, of a professional or analytical nature when filled by persons, other than college faculty members or candidates working toward college degrees, who are participating in midcareer development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

Section 213.3227 Department of Veterans Affairs

(a) Not to exceed 800 principal investigatory, scientific, professional, and technical positions at grades GS-11 and above in the medical research program.

(b) Not to exceed 25 Criminal Investigator (Undercover) positions, GS-1811, in grades 5 through 12, conducting undercover investigations in the Veterans Health Administration supervised by the VA, Office of Inspector General. Initial appointments shall be greater than 1 year, but not to exceed 4 years and may be extended indefinitely in 1-year increments.

Section 213.3236 U.S. Soldiers' and Airmen's Home

(a) (Reserved).

(b) Director, Health Care Services; Director, Member Services; Director, Logistics; and Director, Plans and Programs.

Section 213.3240 National Archives and Records Administration

(a) Executive Director, National Historical Publications and Records Commission.

Section 213.3248 National Aeronautics and Space Administration

(a) Not to exceed 40 positions of Command Pilot, Pilot, and Mission Specialist candidates at grades GS-7 through 15 in the Space Shuttle Astronaut program. Employment under this authority may not exceed 3 years.

Section 213.3255 Social Security Administration

(a) Temporary and time-limited positions in the Ticket to Work and Work Incentives Advisory Panel. No employees may be appointed after November 17, 2007.

Section 213.3274 Smithsonian Institution

(a) (Reserved).

(b) Freer Gallery of Art. (1) Not to exceed four positions of Oriental Art Restoration Specialist at grades GS-9 through GS-15.

Section 213.3276 Appalachian Regional Commission

(a) Two Program Coordinators.

Section 213.3278 Armed Forces Retirement Home

(a) Naval Home, Gulfport, Mississippi. (1) One Resource Management Officer position and one Public Works Officer position, GS/GM-15 and below.

Section 213.3282 National Foundation on the Arts and the Humanities

(a) (Reserved).

(b) National Endowment for the Humanities. (1) Professional positions at grades GS-11 through GS-15 engaged in the review, evaluation, and administration of grants supporting scholarship, education, and public programs in the humanities, the duties of which require indepth knowledge of a discipline of the humanities.

Section 213.3291 Office of Personnel Management

(a) Not to exceed eight positions of Associate Director at the Executive Seminar Centers at grades GS-13 and GS-14. Appointments may be made for any period up to 3 years and may be extended without prior approval for any individual. Not more than half of the authorized faculty positions at any one Executive Seminar Center may be filled under this authority.

(b) Twelve positions of faculty members at grades GS-13 through 15, at the Federal Executive Institute. Initial appointments under this authority may be made for any period up to 3 years and may be extended in 1-, 2-, or 3-year increments indefinitely thereafter.

Schedule C

Section 213.3303 Executive Office of the President

Council of Economic Advisers

CEA 1 Confidential Assistant to the Chairman

CEA 4 Confidential Assistant to the Chairman

CEA 5 Administrative Operations Assistant to a Member

Council on Environmental Quality

CEQ 1 Associate Director for Energy and Transportation to the Chairman

CEQ 10 Associate Director for Communications to the Chair, Council on Economic Quality

CEQ 12 Environmental Research Assistant to the Chief of Staff

CEQ 17 Special Assistant to the Chair, Council on Economic Quality

Office of Management and Budget

OMB 4 Associate Administrator to the Administrator, Office of Procurement Policy

OMB 9 Special Assistant to the Administrator, Office of Information and Regulatory Affairs

OMB 10 Legislative Analyst to the Associate Director for Legislative Affairs

OMB 11 Staff Assistant to the Director, Office of Management and Budget

OMB 12 Confidential Assistant to the Counselor to the Director, Office of Federal Financial Management OMB

OMB 15 Public Affairs Officer to the Associate Director for Communications

OMB 20 Special Assistant to the Associate Director for Information Technology and E-Government

OMB 21 Counselor to the Controller, Office of Federal Financial Management

OMB 23 Deputy Director to the Associate Director for Communications

OMB 25 Special Assistant to the Associate Director for Information Technology and E-Government

OMB 26 Confidential Assistant to the Assistant Director for Administration

OMB 27 Confidential Assistant to the Deputy Director, Office of Management and Budget

OMB 28 Legislative Assistant to the Associate Director for Legislative Affairs

OMB 30 Confidential Assistant to the Associate Director for Information Technology and E-Government

OMB 31 Confidential Assistant to the Associate Director for Legislative Affairs

OMB 32 Public Affairs Specialist to the Associate Director for Communications

OMB 33 Deputy General Counsel to the General Counsel

OMB 136 Public Affairs Specialist to the Associate Director for Communication

OMB 138 Deputy General Council to the General Counsel

OMB 141 Deputy to the Associate Director to the Associate Director for Legislative Affairs (Senate)

OMB 146 Special Assistant to the Director, Office of Management and Budget

OMB 148 Confidential Assistant to the Associate Director, National Security Programs

Office of National Drug Control Policy

ONDCP 1 Deputy Chief of Staff to the Chief of Staff

ONDCP 2 Legislative Analyst to the Director, Office of Legislative Affairs

ONDCP 3 Public Affairs Specialist to the Director, Office of National Drug Control Policy

ONDCP 4 Confidential Counsel to the Director, Office of National Drug Control Policy

ONDCP 5 Press Secretary (Assistant Director) to the Director, Office of National Drug Control Policy

ONDCP 6 Special Assistant to the Director, Office of National Drug Control Policy

ONDCP 7 Special Assistant to the Director, Office of National Drug Control Policy

ONDCP 8 Associate Deputy Director to the Deputy Director, State and Local Affairs

ONDCP 12 Information Receptionist to the Director, Office of the National Drug Control Policy

ONDCP 83 Chief, Press Relations to the Director, Office of National Drug Control Policy

Office of Science and Technology Policy

OSTP 5 Executive Assistant for Policy and Intergovernmental Affairs to the General Counsel

OSTP 17 Executive Director, President's Council of Advisors on Science and Technology to the Director

OSTP 21 Confidential Assistant to the Associate Director, Technology Division

OSTP 22 Confidential Assistant (Director's Office) to the Chief of Staff

OSTP 28 Assistant for Communications to the Director

Office of the United States Trade Representative

USTR 13 Confidential Assistant to the General Counsel

USTR 18 Confidential Assistant to the Chief of Staff

USTR 19 Special Textile Negotiator to the U.S. Trade Representative

USTR 23 Confidential Assistant to the Deputy U.S. Trade Representative

USTR 35 Deputy Assistant U.S. Trade Representative for Congressional Affairs to the Assistant U.S. Trade Representative

USTR 46 Public Affairs Specialist to the Associate U.S. Trade Representative for Policy and Communications

USTR 70 Deputy Assistant U.S. Trade Representative for Congressional Affairs to the Assistant U.S. Trade Representative

USTR 72 Confidential Assistant to the U.S. Trade Representative

USTR 74 Special Assistant to the U.S. Trade Representative

USTR 75 Director of Scheduling to the U.S. Trade Representative

Official Residence of the Vice President

ORVP 1 Residence Manager and Social Secretary to the Assistant to the Vice President and Chief of Staff to Mrs. Cheney

Section 213.3304 Department of State

ST 9 Special Assistant to the Secretary of State

ST 38 Public Affairs Specialist to the Assistant Secretary for Public Affairs

ST 43 Foreign Affairs Research Analyst to the Assistant Secretary for Intelligence and Research

ST 84 Staff Assistant to the Assistant Secretary for Equal Employment and Civil Rights

ST 87 Staff Assistant to the Assistant Secretary, Equal Employment and Civil Rights

ST 98 Program Officer (Director of Press Center) to the Assistant Secretary for Public Affairs

ST 99 Legislative Analyst to the Assistant Secretary for Legislative Affairs

ST 103 Public Affairs Specialist to the Deputy Assistant Secretary

ST 104 Special Assistant to the Under Secretary

ST 105 Special Assistant to the Under Secretary for Arms Control and International Security Affairs

ST 106 Special Assistant to the Under Secretary

ST 107 Member to the Director, Policy Planning Staff

ST 108 Member to the Director, Policy Planning Staff

ST 109 Special Assistant to the Deputy Secretary of State

ST 110 Special Assistant to the Assistant Secretary for Public Affairs

ST 111 Public Affairs Specialist to the Assistant Secretary for Public Affairs

ST 112 Staff Assistant to the Director, Policy Planning Staff, Office of the Secretary

ST 113 Special Assistant to the Under Secretary for Economic, Business and Agricultural Affairs

ST 115 Staff Director, Fulbright Foreign Scholarship Fund to the Assistant Secretary, Education and Cultural Affairs

ST 116 Legislative Management Officer to the Assistant Secretary, Bureau of Legislative Affairs

ST 118 Special Assistant to the Deputy Secretary of State

ST 119 Special Advisor to the Assistant Secretary, Bureau of East Asian and Pacific Affairs

ST 121 Special Assistant to the Assistant Secretary for Public Affairs

ST 122 Public Affairs Specialist to the Assistant Secretary for Public Affairs

ST 123 Special Assistant to the Coordinator, International Information Program

ST 124 Special Assistant to the Chief of Protocol

ST 126 Staff Assistant to the Deputy Secretary of State

ST 128 Protocol Officer to the Chief of Protocol

ST 129 Staff Assistant to the Deputy Assistant Secretary

ST 130 Staff Assistant to the Under Secretary for Management

ST 131 Special Assistant to the Assistant Secretary, Legal Advisor

ST 132 Legislative Management Officer to the Assistant Secretary for Legislative Affairs

ST 133 Public Affairs Specialist to the Assistant Secretary for Public Affairs

ST 159 Staff Assistant to the Deputy Assistant Secretary, Bureau of Oceans

ST 160 Staff Assistant to the Assistant Secretary Bureau of Democracy, Human Rights and Labor

ST 161 Staff Assistant to the Director, White House Liaison Staff

ST 162 Staff Assistant to the Assistant Secretary for International Narcotics and Law Enforcement Affairs

ST 163 Public Affairs Specialist to the Assistant Secretary for Public Affairs

ST 164 Executive Assistant to the Deputy Secretary of State

ST 165 Member to the Director, Policy Planning Staff

ST 166 Attorney Advisor to the Assistant Secretary for Civil Rights

ST 167 Special Assistant to the Assistant Secretary for Legislative Affairs

ST 169 Legislative Analyst to the Assistant Secretary for Legislative Affairs

ST 171 Special Assistant to the Assistant Secretary for Political-Military Affairs

ST 172 Legislative Management Officer to the Assistant Secretary for Legislative Affairs

ST 176 Executive Assistance to the Inspector General

ST 177 Special Assistant to the Under Secretary for Arms Control and International Security

ST 182 Special Assistant to the Assistant Secretary for African Affairs

ST 184 Special Assistant to the Deputy Secretary of State

ST 185 Special Assistant to the Assistant Secretary for European Affairs

ST 188 Foreign Affairs Officer to the Coordinator for Counter-Terrorism

ST 190 Legislative Management Officer to the Assistant Secretary for Legislative Affairs

ST 191 Senior Policy Advisor to the Assistant Secretary for Legislative Affairs

ST 192 Staff Assistant to the Under Secretary for Arms Control and International Security

ST 193 Supervisory Management Analyst to the Deputy Assistant Secretary for Buildings Operations

ST 194 Senior Advisor to the Under Secretary for Arms Control and International Security

ST 195 Special Assistant to the Assistant Secretary for Educational and Cultural Affairs

ST 199 Attorney-Advisor to the Legal Advisor

ST 201 Staff Assistant to the Under Secretary for Global Affairs

ST 216 Senior Advisor to the U.S. Permanent Representative to the Organization of American States

ST 221 Legislative Management Officer to the Assistant Secretary for Legislative Affairs

ST 224 Senior Advisor to the Assistant Secretary for South Asian Affairs

ST 228 Special Assistant to the Assistant Secretary, Bureau of East Asian and Pacific Affairs

ST 237 Legislative Analyst to the Senior Legislative Analyst

ST 238 Staff Assistant to the Under Secretary for Arms Control and International Security

ST 245 Foreign Affairs Officer to the Director, Office to Monitor and Combat Trafficking in Persons

ST 267 Foreign Affairs Officer to the Assistant Secretary for Public Affairs

ST 275 Staff Assistant to the Director, White House Liaison

ST 292 Special Assistant to the Assistant Secretary for Resource Management

ST 306 Staff Assistant to the Senior Advisor (White House Liaison)

ST 315 Office Director (Foreign Affairs) to the Assistant Secretary, Democracy, Human Rights and Labor

ST 322 Public Affairs Specialist to the Deputy Assistant Secretary (Principal) in Public Affairs

ST 327 Staff Assistant to the Assistant Secretary, Bureau of Educational and Cultural Affairs

ST 345 Public Affairs Specialist to the Assistant Secretary for Public Affairs

ST 346 Protocol Officer (Ceremonials) to the Chief of Protocol

ST 350 Protocol Officer (Visits) to the Chief of Protocol

ST 370 Program Officer to the Deputy Assistant Secretary, Bureau of Public Affairs

ST 393 Special Assistant to the Deputy Assistant Secretary, Chief Operating Officer of Overseas Buildings Operations

ST 394 Legislative Management Officer to the Assistant Secretary for Legislative Affairs

ST 395 Director, Art in Embassies Program to the Deputy Assistant Secretary, Chief Operating Officer of Overseas Buildings Operations

ST 396 Program Officer to the Director, Office of International Visitors, Bureau of Educational and Cultural Affairs

ST 397 Foreign Affairs Officer to the Under Secretary for Global Affairs

ST 399 Confidential Assistant to the Secretary of State

ST 419 Staff Assistant to the Assistant Secretary for Resource Management

ST 435 Public Affairs Specialist to the Assistant Secretary, Bureau of Educational and Cultural Affairs

ST 447 Foreign Affairs Officer to the Assistant Secretary for Western Hemisphere Affairs

ST 450 Special Assistant to the Under Secretary for Public Diplomacy and Public Affairs

ST 479 Senior Technical Advisor to the Coordinator, Office of International and Information Programs

ST 499 Senior Advisor to the Assistant Secretary, International Narcotics and Law Enforcement Affairs

ST 500 Foreign Affairs Officer to the Coordinator for United States Assistance to Europe and Eurasia

ST 503 Special Assistant to the Deputy Assistant Secretary, China

ST 505 Resource, Plans, and Policy Advisor to the Assistant Secretary for Resource Management

ST 510 Special Assistant to the Assistant Secretary for Resource Management

ST 516 Foreign Affairs Officer to the Deputy Director, Policy Planning Staff

ST 519 Public Affairs Specialist to the Deputy Assistant Secretary, Bureau of Public Affairs

ST 522 Special Assistant to the Assistant Secretary for African Affairs Bureau

ST 528 Special Assistant to the Chief of Protocol

ST 532 Staff Assistant to the Chief of Protocol

ST 547 Supervisory Foreign Affairs Officer to the Deputy Office Director, Office to Monitor and Combat Trafficking in Persons

ST 548 Resources, Plans and Policy Advisor to the Assistant Secretary for Resource Management

ST 584 Supervisory Management Analyst to the Deputy Assistant Secretary for Logistics Management

International Boundary and Water Commission, United States and Mexico

IBWC 1 Confidential Assistant to the Commissioner, International Boundary and Water Commission, United States and Mexico

Section 213.3305 Department of the Treasury

TREA 59 Special Assistant to the Assistant Secretary Tax Policy)

TREA 139 Director of Strategic Planning, Scheduling and Advance to the Chief of Staff

TREA 230 Public Affairs Specialist to the Director, Public Affairs

TREA 250 Director, Public Affairs to the Deputy Assistant Secretary (Public Affairs)

TREA 277 Speechwriter to the Assistant Secretary for Public Affairs

TREA 307 Special Assistant to the Treasurer of the United States

TREA 317 Public Affairs Specialist to the Director, Public Affairs

TREA 318 Deputy to the Assistant Secretary, Legislative Affairs (International)

TREA 351 Public Affairs Specialist to the Director, Office of Public Affairs

TREA 362 Special Assistant to the Assistant Secretary for Financial Institutions

TREA 364 Deputy Assistant Secretary to the Assistant Secretary for Financial Institutions

TREA 379 Staff Assistant to the White House Liaison

TREA 380 Deputy to the Assistant Secretary, Legislative Affairs

TREA 381 Special Assistant to the Assistant Secretary for Legislative Affairs

TREA 390 Senior Advisor to the Assistant Secretary for Management and Chief Financial Officer

TREA 391 Deputy Director for Scheduling and Advance to the Director of Scheduling

TREA 395 Deputy Executive Secretary to the Executive Secretary

TREA 396 Senior Advisor to the Deputy Assistant Secretary for Public Liaison

TREA 401 Special Assistant for Advance to the Director of Scheduling

TREA 404 Senior Advisor to the Assistant Secretary for Financial Institutions

TREA 405 Special Assistant to the Assistant Secretary, Legislative Affairs

TREA 407 Senior Advisor to the Assistant Secretary (Financial Markets)

TREA 410 Senior Advisor to the Deputy Secretary

TREA 411 Special Assistant to the Assistant Secretary for Public Affairs

TREA 412 Special Assistant for Advance to the Director of Scheduling

TREA 414 Advisor to the Deputy Secretary of Treasury

TREA 417 Senior Advisor to the Deputy Assistant Secretary for Government Financial Policy

TREA 421 Special Assistant to the Assistant Secretary, (Legislative Affairs)

TREA 428 Deputy Assistant Secretary (Public Liaison) to the Assistant Secretary (Public Affairs)

Section 213.3306 Department of Defense

DOD 1 Staff Specialist to the Under Secretary of Defense, Acquisition, Technology and Logistics

DOD 3 Special Assistant to the Deputy Under Secretary of Defense (International Technology Security)

DOD 4 Special Assistant to the Director, Defense Research and Engineering

DOD 5 Staff Specialist to the Deputy Under Secretary of Defense (Logistics and Material Readiness)

DOD 6 Staff Specialist to the Deputy Under Secretary of Defense (Logistics and Material Readiness)

DOD 7 Personal and Confidential Assistant to the Assistant to the Secretary of Defense for Nuclear and Chemical and Biological Defense Programs

DOD 8 Staff Specialist to the Director, Small and Disadvantaged Business Utilization

DOD 32 Special Assistant to the Assistant Secretary of Defense (Legislative Affairs)

DOD 33 Personal Secretary to the Deputy Secretary of Defense

DOD 270 Confidential Assistant to the Executive Secretary, Senior Executive Council

DOD 271 Private Secretary to the Assistant Secretary of Defense (Reserve Affairs)

DOD 272 Special Assistant to the Principal Deputy Under Secretary of Defense, Office of the Comptroller

DOD 273 Civilian Executive Assistant to the Special Assistant to the Secretary of Defense (White House Liaison)

DOD 274 Staff Assistant to the Special Assistant to the Secretary of Defense (White House Liaison)

DOD 275 Confidential Assistant to the Assistant Secretary of Defense (Force Management Policy)

DOD 278 Special Assistant to the Inspector General, Department of Defense

DOD 279 Personal and Confidential Assistant to the Director Operational Test and Evaluation

DOD 280 Special Assistant to the Principal Deputy Assistant Secretary of Defense (Legislative Affairs)

DOD 283 Special Assistant to the Principal Deputy Assistant Secretary of Defense (Legislative Affairs)

DOD 298 Defense Fellow to the Special Assistant to the Secretary of Defense for White House Liaison

DOD 300 Confidential Assistant to the Under Secretary (Acquisition and Technology)

DOD 302 Defense Fellow to the Special Assistant to the Secretary of Defense (White House Liaison)

DOD 304 Defense Fellow to the Special Assistant to the Secretary of Defense (White House Liaison)

DOD 305 Personal and Confidential Assistant to the Under Secretary of Defense (Personnel and Readiness)

DOD 307 Confidential Assistant to the Secretary of Defense

DOD 310 Defense Fellow to the Special Assistant to the Secretary of Defense (White House Liaison)

DOD 312 Director, Cooperative Threat Reduction to the Assistant Secretary of Defense (Strategy and Threat Reduction)

DOD 314 Coordinator of Reserve Integration to the Principal Deputy Assistant Secretary of Defense (Reserve Affairs)

DOD 316 Defense Fellow to the Special Assistant to the Secretary of Defense (White House Liaison)

DOD 317 Director of Protocol to the Special Assistant to the Secretary and Deputy Secretary of Defense

DOD 318 Defense Fellow to the Special Assistant to the Secretary (White House Liaison)

DOD 319 Confidential Assistant to the Secretary of Defense

DOD 320 Personal and Confidential Assistant to the Secretary of Defense

DOD 321 Defense Fellow to the Special Assistant to the Secretary of Defense (White House Liaison)

DOD 332 Personal and Confidential Assistant to the Assistant Secretary of Defense (Regional Security)

DOD 333 Speechwriter to the Director, Directorate for Editorial Services

DOD 368 Personal and Confidential Assistant to the Assistant Secretary of Defense for Legislative Affairs

DOD 454 Special Assistant to the Director of Net Assessment

DOD 456 Director, Management Initiatives to the Under Secretary of Defense (Personnel and Readiness)

DOD 457 Special Assistant (Joint Chiefs of Staff) to the Special Assistant to the Secretary of Defense (White House Liaison)

DOD 460 Public Affairs Specialist to the Assistant Secretary of Defense (Public Affairs)

DOD 469 Special Assistant (Communications) to the Principal Deputy Assistant Secretary of Defense (Legislative Affairs)

DOD 470 Defense Fellow to the Special Assistant to the Secretary of Defense (White House Liaison)

DOD 471 Public Affairs Specialist to Deputy Assistant Secretary for Public Affairs

DOD 473 Personal and Confidential Assistant to the Assistant Secretary of Defense for International Security Affairs

DOD 474 Special Assistant to the Assistant Secretary of Defense for Special Operations and Low-Intensity Conflict

DOD 480 Executive Assistant to the Assistant Secretary of Defense (Strategy Requirements and Resources)

DOD 509 Protocol Officer to the Special Assistant to the Secretary of Defense (White House Liaison)

DOD 518 Public Affairs Specialist to the Assistant Secretary of Defense (Public Affairs)

DOD 519 Private Secretary to the Assistant Secretary of Defense (Regional Security Affairs)

DOD 520 Special Assistant to the Deputy Assistant Secretary of Defense for Prisoner of War/Missing Personnel Affairs

DOD 521 Staff Assistant to the Deputy Assistant Secretary of Defense (Near East/South Asia)

DOD 530 Writer-Editor to the Director, Strategic Communications

DOD 579 Special Assistant to the Assistant Secretary of Defense (International Security Policy)

DOD 580 Staff Assistant to the Assistant Secretary of Defense (International Security Policy)

DOD 583 Special Assistant to the Principal Deputy Assistant Secretary of Defense (Legislative Affairs)

DOD 584 Writer-Editor to the Assistant Secretary of Defense (Public Affairs)

DOD 585 Special Assistant to the Assistant Secretary of Defense (Legislative Affairs)

DOD 589 Special Assistant to the Special Assistant to the Secretary of Defense for White House Liaison

DOD 590 Defense Fellow to the Director, Administration and Management

DOD 611 Personal and Confidential Assistant to the Secretary of Defense

DOD 615 Defense Fellow to the Special Assistant to the Secretary of Defense (White House Liaison)

DOD 618 Confidential Assistant to the Assistant Secretary of Defense (Health Affairs)

DOD 620 Speech Writer to the Director, Directorate for Editorial Services

DOD 621 Defense Fellow to the Special Assistant to the Secretary of Defense (White House Liaison)

DOD 622 Confidential Assistant to the Assistant Secretary of Defense

DOD 623 Public Affairs Specialist to the Assistant Secretary of Defense for Public Affairs

DOD 624 Public Affairs Specialist to the Assistant Secretary of Defense for Public Affairs

DOD 625 Executive Assistant to the Special Assistant to the Secretary of Defense for White House Liaison

DOD 643 Personal and Confidential Assistant to the Under Secretary of Defense (Acquisition, Technology and Logistics)

DOD 644 Defense Fellow to the Special Assistant to the Secretary of Defense for White House Liaison

DOD 650 Electronic Commerce Specialist to the Deputy Assistant Secretary of Defense (Deputy Chief Information Officer)

DOD 651 Personal and Confidential Assistant to the Under Secretary of Defense (Comptroller)

DOD 663 Public Affairs Specialist to the Deputy Assistant Secretary for Communications

DOD 665 Special Assistant to the Under Secretary of Defense for Policy

DOD 666 Special Assistant to the Principal Deputy Under Secretary of Defense (Policy)

DOD 669 Public Affairs Specialist to the Deputy Assistant Secretary of Defense for Public Affairs

DOD 670 Staff Assistant to the Assistant Secretary of Defense (International Security Policy)

DOD 671 Staff Assistant to the Assistant Secretary of Defense (International Security Policy)

DOD 672 Defense Fellow to the Special Assistant to the Secretary of Defense (White House Liaison)

DOD 673 Staff Assistant to the Assistant Secretary of Defense (International Security Policy)

DOD 674 Defense Fellow to the Special Assistant to the Secretary of Defense (White House Liaison)

DOD 675 Staff Assistant to the Deputy Assistant Secretary of Defense for East Asia and Pacific

DOD 677 Research Assistant to the Deputy Assistant Secretary of Defense for Issues and Strategy Management

DOD 680 Confidential Assistant to the Deputy Secretary of Defense

DOD 686 Personal and Confidential Assistant to the General Counsel

DOD 690 Personal and Confidential Assistant to the Secretary of Defense

DOD 691 Special Policy Advisor to the Under Secretary of Defense (Policy)

DOD 692 Special Advisor to the Under Secretary of Defense (Policy)

DOD 694 Staff Assistant to the Deputy Assistant Secretary of Defense (Near East/South Asia)

DOD 695 Defense Fellow to the Special Assistant to the Secretary of Defense (White House Liaison)

Section 213.3307 Department of the Army (DoD)

ARMY 1 Executive Staff Assistant to the Secretary of the Army

ARMY 2 Special Assistant to the Secretary of the Army

ARMY 3 Special Assistant to the General Counsel

ARMY 4 Confidential Assistant to the General Counsel

ARMY 5 Secretary (Office Automation) to the Under Secretary of the Army

ARMY 25 Personal And Confidential Assistant to the Assistant Secretary of the Army (Financial Management and Comptroller)

ARMY 26 Special Assistant to the General Counsel of the Army

ARMY 73 Special Assistant to the Assistant Secretary of the Army (Civil Works) for Congressional Affairs

Section 213.3308 Department of the Navy (DoD)

NAV 56 Staff Assistant to the Assistant Secretary of the Navy (Financial Management)

NAV 66 Staff Assistant to the Secretary of the Navy

NAV 69 Staff Assistant to the Under Secretary of the Navy

NAV 71 Special Assistant to the Secretary of the Navy

Section 213.3309 Department of the Air Force (DoD)

AF 7 Confidential Assistant to the Assistant Secretary (Financial Management Comptroller)

AF 8 Confidential Assistant to the General Counsel

AF 42 Special Assistant for Community Relations to the Special Assistant for Policy and Planning

AF 44 Confidential Assistant to the Secretary of the Air Force

Section 213.3310 Department of Justice

JUS 13 Special Assistant to the Deputy Attorney General

JUS 14 Deputy Administrator to the Administrator, Office of Juvenile Justice and Delinquency Prevention

JUS 15 Deputy Director to the Director, National Institute of Justice

JUS 16 Staff Assistant to the Assistant Attorney General, Office of Justice Programs, Bureau of Justice Statistics

JUS 17 Special Assistant to the Director, Office of Domestic Preparedness, Office of Justice Programs

JUS 18 Special Assistant to the Director, Office of Congressional and Public Relations

JUS 19 Special Assistant to the Chairman, Foreign Claims Settlement Commission

JUS 20 Director, Office of Police Corps and Law Enforcement Education to the Assistant Attorney General, Office of Justice Programs

JUS 21 Chief of Staff to the Director, Bureau of Justice Assistance, Office of Justice Programs

JUS 22 Research Assistant to the Director, Office of Public Affairs

JUS 23 Special Assistant for International Protocol to the Director, Office of International Affairs, Criminal Division

JUS 24 Special Assistant to the Deputy Administrator, Drug Enforcement Administration

JUS 25 Special Assistant to the Assistant Attorney General, Criminal Division

JUS 27 Counsel to the Assistant Attorney General, Environmental and Natural Resources Division

JUS 38 Secretary (OA) to the United States Attorney, District of Massachusetts

JUS 40 Secretary (OA) to the United States Attorney, Eastern District of Michigan

JUS 70 Attorney Advisor to the Assistant Attorney General, Civil Division

JUS 97 Assistant to the Attorney General

JUS 100 Public Affairs Specialist to the Director, Office of Public Affairs

JUS 104 Attorney Advisor to the Assistant Attorney General, Civil Division

JUS 114 Assistant to the Attorney General

JUS 115 Special Assistant to the Director, Community Oriented Policing Services

JUS 122 Senior Advisor to the Director, Office of Public Affairs

JUS 129 Special Counsel to the Assistant Attorney General, Antitrust Division

JUS 141 Counsel to the Assistant Attorney General, Criminal Division

JUS 144 Special Assistant to the Solicitor General

JUS 149 Attorney Advisor to the Assistant Attorney General, Environment and Natural Resources Division

JUS 165 Counsel to the Associate Attorney General

JUS 166 Counsel to the Attorney General

JUS 173 Secretary (OA) to the Assistant United States Attorney, Northern District of Oklahoma

JUS 174 Secretary (Office Automation) to the United States Attorney General's Office, District of Wyoming

JUS 187 Counsel to the Assistant Attorney General, Civil Division

JUS 188 Attorney Advisor to the Assistant Attorney General, Civil Rights Division

JUS 189 Attorney Advisor to the Assistant Attorney General, Civil Division

JUS 198 Special Assistant to the Assistant Attorney General, Criminal Division

JUS 199 Counsel to the Director, Office of International Affairs

JUS 205 Executive Assistant to the Commissioner, Immigration and Naturalization Service

JUS 215 Attorney Advisor/Special Assistant to the Director, Office of Domestic Preparedness, Office of Justice Programs

JUS 217 Attorney Advisor to the Assistant Attorney General, Office of Justice Programs

JUS 233 Counsel to the Assistant Attorney General, Civil Division

JUS 242 Attorney Advisor to the Assistant Attorney General, Civil Division

JUS 245 Attorney Advisor to the Assistant Attorney General, Environment and Natural Resources Division

JUS 248 Special Assistant to the Assistant Attorney General, Office of Justice Programs

JUS 249 Special Assistant to the Director, Violence Against Women Office, Office of Justice Programs

JUS 255 Counsel to the Assistant Attorney General, Civil Rights Division

JUS 256 Senior Counsel for Voting Reform to the Assistant Attorney General, Civil Rights Division

JUS 264 Confidential Assistant to the Assistant Attorney General, Antitrust Division

JUS 267 Counsel to the Assistant Attorney General, Civil Rights Division

JUS 268 Counsel to the Assistant Attorney General, Antitrust Division

JUS 270 Special Assistant to the Assistant Attorney General, Civil Rights Division

JUS 272 Associate Director and Counsel, Faith Based Task Force to the Principal Deputy Assistant Attorney General, Office of Justice Programs

JUS 277 Assistant for Scheduling to the Attorney General

JUS 278 Deputy Director to the Director, Office of Intergovernmental Affairs

JUS 279 Deputy Director to the Director, Office of Intergovernmental Affairs

JUS 280 Special Assistant to the Assistant Attorney General, Office of Legal Development

JUS 283 Confidential Assistant to the Director, Office of Intergovernmental Affairs

JUS 287 Special Assistant to the Assistant Attorney General, Criminal Division

JUS 293 Special Assistant to the Deputy Attorney General

JUS 319 Attorney Advisor to the Assistant Attorney General, Criminal Division

JUS 322 Counsel to the Assistant Attorney General, Office of Legal Policy

JUS 343 Assistant and Deputy White Liaison to the Attorney General

JUS 346 Deputy Director to the Director, Office of Public Affairs

JUS 360 Senior Policy Advisor to the Assistant Attorney General, Office of Legal Policy

JUS 367 Confidential Assistant to the Attorney General

JUS 387 Deputy Director to the Director, Office of Public Affairs

JUS 388 Staff Assistant to the Director, United States Marshals Service

JUS 406 Public Affairs Specialist to the Director, Office of Public Affairs

JUS 409 Staff Assistant to the Assistant Attorney General, Office of Justice Programs

JUS 418 Secretary (OA) to the U.S. Attorney, District of Nebraska

JUS 420 Secretary (Office Automation) to the United States Attorney, Eastern District of Pennsylvania

JUS 423 Secretary (Office Automation) to the United States Attorney, District of New Mexico

JUS 426 Secretary (OA) to the United States Attorney, District of Maryland

JUS 427 Secretary (OA) to the United States Attorney, District of New Hampshire

JUS 429 Secretary (OA) to the United States Attorney, Eastern District of Arkansas

JUS 430 Secretary (OA) to the United States Attorney, District of Wichita, Kansas

JUS 432 Senior Counsel to the Director and Project Safe Neighborhoods Coordinator

JUS 436 Secretary (OA) to the United States Attorney, Southern District of Alabama

JUS 437 Secretary (OA) to the United States Attorney, District of Delaware

JUS 438 Deputy Assistant Attorney General to the Assistant Attorney General, Tax Division

JUS 444 Special Assistant/Associate Director to the Director, Office of Intergovernmental Affairs

JUS 447 Staff Assistant to the Principal Deputy Assistant Attorney General, Office of Justice Programs

JUS 448 Secretary (OA) to the Assistant United States Attorney, Western District of Oklahoma

Section 213.3312 Department of the Interior

INT 18 Special Assistant to the Deputy Director for External Affairs (National Park Service)

INT 19 Deputy Director to the Director, External and Intergovernmental Affairs

INT 20 Assistant Director, Legislative and Congressional Affairs to the Director, National Park Service

INT 25 Special Assistant to the Secretary of Interior

INT 37 Hispanic Media Outreach Coordinator to the Director, Office of Communications

INT 68 Associate Director to the Director, Office of Congressional and Legislative Affairs

INT 73 Speechwriter to the Director of Communications

INT 75 Chief, Congressional and Legislative Affairs to the Director of External and Intergovernmental Affairs

INT 86 Special Assistant to the Director, Minerals Management Service

INT 91 Public Affairs Specialist to the Director, External and Internal Governmental Affairs

INT 92 Special Assistant to the Director, External and Intergovernmental Affairs

INT 95 Special Assistant for Communications to the Assistant Secretary, Indian Affairs

INT 103 Special Assistant to the Assistant Secretary, Indian Affairs

INT 124 Special Assistant to the Director, Fish and Wildlife Service

INT 129 Special Assistant to the Assistant Secretary, Fish, Wildlife and Parks

INT 133 Special Assistant to the Director, Fish and Wildlife Service

INT 140 Special Assistant to the Deputy Director for External Affairs

INT 375 Counselor to the Assistant Secretary for Fish, Wildlife and Parks

INT 467 Special Assistant to the Director, Office of External Affairs

INT 479 Special Assistant to the Director of Minerals Management Service

INT 490 Special Assistant (Advance) to the Deputy Chief of Staff

INT 518 Special Assistant to the Director, Bureau of Land Management

INT 524 Special Assistant to the Director, Bureau of Land Management

INT 529 Special Assistant to the Director, National Park Service

INT 530 Special Assistant to the Deputy Secretary

INT 531 Special Assistant to the Solicitor

INT 535 Special Assistant to the Assistant Secretary, Water and Science

INT 542 Special Assistant to the Assistant Secretary, Policy Management and Budget

INT 547 Press Secretary to the Director of Communications

INT 551 Special Assistant for Scheduling and Advance to the Deputy Chief of Staff

INT 557 Director of Scheduling and Advance to the Deputy Chief of Staff

INT 559 Special Assistant for Scheduling and Advance to the Deputy Chief of Staff

INT 560 Associate Director for Senate to the Director, Congressional and Legislative Affairs

INT 561 Special Assistant to the Secretary for Alaska to the Chief of Staff

INT 567 White House Liaison to the Chief of Staff

Section 213.3313 Department of Agriculture

AGR 103 Special Assistant to the Under Secretary for Farm and Foreign Agricultural Service

AGR 105 Confidential Assistant to the Chief of Staff

AGR 110 Confidential Assistant to the Secretary

AGR 111 Confidential Assistant to the Assistant Secretary for Congressional Relations

AGR 112 Confidential Assistant to the Assistant Secretary for Congressional Relations

AGR 114 Confidential Assistant to the Deputy Secretary

AGR 116 Confidential Assistant to the Under Secretary for Rural Development

AGR 119 Director, Legislative and Intergovernmental Affairs to the Under Secretary for Research, Education And Economics

AGR 121 Confidential Assistant to the Chief Financial Officer

AGR 123 Special Assistant to the Under Secretary for Natural Resources and Environment

AGR 125 Confidential Assistant to the Assistant Secretary for Congressional Relations

AGR 126 Staff Assistant to the Under Secretary for Marketing and Regulatory Programs

AGR 127 Confidential Assistant to the Assistant Secretary for Congressional Relations

AGR 128 Confidential Assistant to the Assistant Secretary for Congressional Relations

AGR 129 Special Assistant to the Administrator, Risk Management Agency

AGR 130 Confidential Assistant to the Director, Planning and Coordination

AGR 131 Director of Advance to the Deputy Chief of Staff, Communications

AGR 132 Special Assistant to the Under Secretary for Food Safety

AGR 133 Special Assistant to the Director of Human Resources Management

AGR 136 Special Assistant to the Deputy Administrator, Office of Community Development

AGR 137 Special Assistant to the Administrator, Rural Utilities Service

AGR 138 Special Assistant to the Administrator, Rural Utilities Service

AGR 140 Confidential Assistant to the Director, Office of Small and Disadvantaged Business Utilization

AGR 159 Special Assistant to the Administrator, Foreign Agricultural Service

AGR 161 Special Assistant to the Director, Office of Communications

AGR 205 Confidential Assistant to the Administrator, Food and Nutrition Service

AGR 231 Director, Legislative and Public Affairs Staff to the Deputy Under Secretary, Rural Development

AGR 263 Special Assistant to the Chief, Natural Resource Manager

AGR 275 Confidential Assistant to the Assistant Secretary for Congressional Relations

AGR 332 Confidential Assistant to the Administrator, Rural Business-Cooperative Service

AGR 355 Director of Speech Writing to the Director of Communications

AGR 377 Confidential Assistant to the Administrator, Rural Business and Cooperative Service

AGR 384 Confidential Assistant to the Secretary of Agriculture

AGR 386 Special Assistant to the Administrator, Rural Business-Cooperative Service

AGR 415 Confidential Assistant to the Administrator, Rural Utilities Service

AGR 422 Confidential Assistant to the Administrator of the Farm Service Agency and Commodity Credit Corporation

AGR 436 Confidential Assistant to the Administrator, Rural Utilities Service

AGR 499 Confidential Assistant to the Secretary of Agriculture

AGR 534 Confidential Assistant to the Director, Office of Communications

AGR 556 Confidential Assistant to the Administrator, Animal and Plant Health Inspection Service

AGR 565 Confidential Assistant to the Administrator, Animal and Plant Health Inspection Service

AGR 566 Confidential Assistant to the Director, Legislative Affairs and Public Affairs Staff

AGR 588 Staff Assistant to the Confidential Assistant, Office of the Secretary

AGR 592 Special Assistant to the Administrator, Farm Service Agency

Section 213.3314 Department of Commerce

COM 4 Deputy Director to the Director, Executive Secretariat

COM 5 Special Assistant to the Director, Office of White House Liaison

COM 12 Special Assistant to the Director, Office of External Affairs

COM 72 Director, Congressional Liaison to the Deputy Assistant Secretary for Program Research and Evaluation

COM 156 Confidential Assistant to the Assistant Secretary for Economic Development

COM 173 Senior Advisor to the Assistant Secretary for Economic Development

COM 181 Senior Advisor to the Assistant Secretary for Communications and Information

COM 193 Special Assistant to the Deputy Assistant Secretary for Service Industries, Tourism and Finance

COM 194 Special Assistant to the Chief of Staff

COM 205 Special Assistant to the Chief of Staff, Office of the Under Secretary for Oceans and Atmosphere

COM 225 Director, Congressional and Public Affairs to the Under Secretary for Export Administration, Bureau of Industry and Security

COM 228 Special Assistant for National Marine Fisheries Service to the Director, Office of Legislative Affairs

COM 232 Chief Counsel to the Assistant Secretary for Economic Development

COM 252 Confidential Assistant to the Director, Executive Secretariat

COM 259 Director of Congressional Affairs to the Under Secretary for International Trade

COM 261 Deputy Communications Director to the Director of Communications, International Trade Administration

COM 262 Special Assistant to the Deputy Assistant Secretary for Transportation and Machinery

COM 263 Special Assistant to the Assistant Secretary and Director General, United States and Foreign Commercial Service

COM 266 Senior Advisor to the Assistant Secretary for Import Administration

COM 267 Confidential Assistant to the Assistant Secretary for Export Administration

COM 273 Executive Assistant to the Assistant Secretary for Trade Development

COM 276 Executive Assistant to the Under Secretary for Economic Affairs

COM 282 Special Assistant to the Assistant Secretary for Legislative and Intergovernmental Affairs

COM 287 Confidential Assistant to the Assistant Secretary for Export Administration

COM 289 Intergovernmental Affairs Specialist to the Deputy Assistant Secretary for Intergovernmental Affairs

COM 290 Special Assistant to the Director, Office of Business Liaison

COM 291 Public Affairs Specialist to the Director, Office of Public Affairs

COM 292 Legislative Affairs Specialist to the Assistant Secretary for Legislative and Intergovernmental Affairs

COM 298 Special Assistant to the Assistant Secretary for Communications and Information, National Telecommunications and Information Administration

COM 302 Director of External Affairs to the Director of Public and Constituent Affairs

COM 308 Special Assistant to the Executive Director, Office of Export Assistance and Business

COM 309 Senior Advisor to the Director, Minority Business Development Agency

COM 317 Confidential Assistant to the Assistant Secretary for Trade Development, International Trade Administration

COM 326 Confidential Assistant to the Deputy Assistant Secretary for Domestic Operations

COM 342 Deputy Director to the Director, Office of the White House Liaison

COM 343 Confidential Assistant to the Deputy Assistant Secretary for Export Promotion Services

COM 350 Deputy Director to the Director, Office of Business Liaison

COM 352 Special Assistant to the Assistant to the Secretary and Director, Office of Policy and Strategic Planning

COM 353 Confidential Assistant to the Deputy Assistant Secretary for Export Promotion Services

COM 354 Public Affairs Specialist to the Assistant Secretary for Communications and Information

COM 371 Policy Advisor to the Chief of Staff

COM 372 Senior Policy Advisor to the Under Secretary for Oceans and Atmosphere

COM 384 Public Affairs Specialist to the National Director, Minority Business Development Agency

COM 387 Confidential Assistant to the Director of Legislative Affairs

COM 393 Legislative Affairs Specialist to the Assistant Secretary for Legislative and Intergovernmental Affairs

COM 394 Deputy Director, to the Director Office of Public Affairs

COM 396 Congressional Affairs Specialist to the Director of Legislative Affairs

COM 402 Chief of Staff to the Under Secretary for Oceans and Atmospheres

COM 409 Confidential Assistant to the Executive Assistant to the Secretary

COM 410 Executive Assistant to the Under Secretary, International Trade Administration

COM 412 Director of Communications to the Assistant Secretary for Trade Development, International Trade Administration

COM 415 Congressional Affairs Specialist to the Director, Office of Legislative Affairs, National Oceanic and Atmospheric Administration

COM 423 Special Assistant to the Under Secretary and Director, Patent and Trademark Office

COM 424 Legislative Affairs Specialist to the Under Secretary for International Trade, International Trade Administration

COM 440 Special Assistant to the Director, Office of White House Liaison

COM 443 Director, Office of External Affairs to the Secretary of Commerce

COM 445 Public Affairs Specialist to the Assistant Secretary for Economic Development

COM 448 Confidential Assistant to the Assistant Secretary for Market Access and Compliance

COM 463 Confidential Assistant to the Director, Office of External Affairs

COM 467 Confidential Assistant to the Chief of Staff

COM 468 Special Assistant to the Under Secretary for Export Administration, Bureau of Export Administration

COM 490 Director of Scheduling to the Director, Office of External Affairs

COM 494 Deputy Press Secretary to the Assistant to the Secretary and Director of Policy and Strategic Planning

COM 495 Special Assistant, Liaison for Cabinet Affairs to the Chief of Staff

COM 504 Senior Analyst to the Under Secretary for Economic Affairs

COM 512 Special Advisor to the Under Secretary for Export Administration

COM 516 Legislative Affairs Specialist to the Director, Office of Legislative Affairs

COM 523 Press Secretary to the Director of Communications

COM 527 Executive Assistant to the Secretary of Commerce

COM 532 Senior Counsel to the General Counsel

COM 538 Chief of Protocol to the Chief of Staff

COM 544 Senior Advisor to the Under Secretary for Technology, International Trade Administration

COM 546 Special Assistant to the Director of External Affairs

COM 551 Legislative Specialist to the Assistant Secretary for Legislative and Intergovernmental Affairs, National Oceanic and Atmospheric Administration

COM 562 Special Assistant to the Chief of Staff

COM 573 Special Assistant to the Assistant Secretary and Director General, U.S. and Foreign Commercial Service

COM 574 Confidential Assistant to the Director, Office of Business Liaison

COM 576 Special Assistant to the Director, Office of Policy and Strategic Planning

COM 583 Special Assistant to the Chief Financial Officer and Assistant Secretary for Administration

COM 589 Policy Advisor to the Chief of Staff

COM 592 Special Assistant to the Assistant Secretary for Trade Development, International Trade Administration

COM 597 News Analyst to the Director, Office of Public Affairs

COM 604 Associate Under Secretary for Communications to the Under Secretary for Economic Affairs

COM 606 Speechwriter to the Director, Office of Public Affairs

COM 618 Special Assistant to the Director, Executive Secretariat Staff

COM 624 Senior Advisor to the Assistant Secretary for Economic Development

COM 625 Chief Information Officer to the Under Secretary of Technology

COM 626 Confidential Assistant to the Deputy Under Secretary for Technology

COM 629 Deputy Director to the Director, Office of Public Affairs, International Trade Administration

COM 646 Public Affairs Specialist to the Deputy Director of Public Affairs for Strategy

COM 648 Press Secretary to the Director of Public Affairs

COM 651 Public Affairs Specialist to the Press Secretary

COM 652 Confidential Assistant to the Director, Office of Public Affairs

COM 659 Director, Office of White House Liaison to the Chief of Staff

COM 662 Special Assistant to the Under Secretary for International Trade

COM 664 Special Assistant to the Assistant Secretary of Commerce Director General of the U.S. and Foreign Commercial Service

COM 676 Special Assistant to the Deputy Assistant Secretary for Energy, Environment and Materials

COM 677 Special Assistant to the Director, Office of Policy and Strategic Planning

COM 681 Special Assistant to the Assistant Secretary for Market Access and Compliance

COM 685 Deputy Director to the Assistant to the Secretary and Director, Office of Policy and Strategic Planning

COM 686 Director of Advance and Special Assistant to the Secretary to the Director of External Affairs

COM 688 Confidential Assistant to the Assistant Secretary for Market Access and Compliance

COM 690 Special Assistant to the Assistant Secretary for Market Access and Compliance

COM 694 Chief, Congressional Affairs to the Under Secretary for Economic Affairs

Section 213.3315 Department of Labor

LAB 7 Special Assistant to the Chief of Staff

LAB 9 Staff Assistant to the Deputy Secretary

LAB 15 Special Assistant to the Assistant Secretary for Public Affairs

LAB 17 Senior Legislative Officers to the Assistant Secretary for Congressional and Intergovernmental Affairs

LAB 24 Special Assistant to the Director of the Women's Bureau

LAB 25 Staff Assistant to the Assistant Secretary for Policy

LAB 44 Senior Intergovernmental Liaison to the Assistant Secretary for Congressional and Intergovernmental Affairs

LAB 55 Special Assistant to the Assistant Secretary for Public Affairs

LAB 66 Special Assistant to the Deputy Assistant Secretary, Office of Federal Contract Compliance Programs, Employment Standards Administration

LAB 83 Special Assistant to the Assistant Secretary, Pension and Welfare Benefits Administration

LAB 91 Special Assistant to the Deputy Assistant Secretary for Disability Employment Policy

LAB 92 Special Assistant to the Director, 21st Century Workforce

LAB 93 Special Assistant to the Director of Scheduling and Advance

LAB 97 Special Assistant to the Assistant Secretary for Administration and Management

LAB 99 Special Assistant to the Assistant Secretary for Employment and Training

LAB 104 Secretary's Representative to the Assistant Secretary, Congressional and Intergovernmental Affairs

LAB 107 Secretary's Representative, Chicago, Illinois, to the Assistant Secretary for Congressional and Intergovernmental Affairs

LAB 111 Secretary's Representative, San Francisco, California, to the Assistant Secretary for Congressional and Intergovernmental Affairs

LAB 112 Secretary's Representative, Seattle, Washington, to the Assistant Secretary for Congressional and Intergovernmental Affairs

LAB 113 Special Assistant to the Assistant Secretary, Disability Employment Policy

LAB 117 Special Assistant to the Deputy Assistant Secretary for Disability Employment Policy

LAB 118 Staff Assistant to the Chief of Staff

LAB 120 Senior Legislative Officer to the Assistant Secretary for Congressional and Intergovernmental Affairs

LAB 121 Staff Assistant to the Secretary of Labor

LAB 122 Senior Intergovernmental Officer to the Assistant Secretary for Congressional and Intergovernmental Affairs

LAB 123 Special Assistant to the Assistant Secretary for Disability Employment Policy

LAB 125 Special Assistant to the Assistant Secretary for Public Affairs

LAB 126 Chief of Staff to the Deputy Assistant Secretary

LAB 130 Special Assistant to the Director of 21st Century Office

LAB 131 Special Assistant to the Assistant Secretary for Employment and Training Administration

LAB 132 Special Assistant to the Director, Office of Public Liaison

LAB 133 Special Assistant to the Director, Women's Bureau

LAB 135 Special Assistant to the Assistant Secretary for Office of Congressional and Intergovernmental Affairs

LAB 137 Speechwriter to the Assistant Secretary for Public Affairs

LAB 138 Special Assistant to the Assistant Secretary for Mine Safety and Health

LAB 139 Special Assistant to the Assistant Secretary for Public Affairs

LAB 145 Research Assistant to the Assistant Secretary for Congressional and Intergovernmental Affairs

LAB 147 Attorney-Advisor (Labor) to the Solicitor of Labor

LAB 149 Special Assistant to the Director, Women's Bureau

LAB 152 Special Assistant to the Director, Women's Bureau

LAB 154 Senior Legislative Officer to the Assistant Secretary for Congressional and Intergovernmental Affairs

LAB 163 Special Assistant to the Assistant Secretary for Occupational Safety and Health

LAB 168 Chief of Staff to the Assistant Secretary for Policy

LAB 169 Deputy Director, Executive Secretariat to the Executive Secretary

LAB 171 Staff Assistant to the Director of Scheduling and Advance

LAB 172 Special Assistant to the Secretary of Labor

LAB 174 Staff Assistant to the Secretary of Labor

LAB 175 Senior Policy Analyst to the Assistant Secretary for Policy

LAB 176 Speech Writer to the Assistant Secretary for Public Affairs

LAB 177 Speech Writer to the Assistant Secretary for Public Affairs

LAB 182 Staff Assistant to the White House Liaison

LAB 183 Special Assistant to the Assistant Secretary for Occupational Safety and Health

LAB 185 Deputy Director to the Director, Office of Faith-Based and Community Initiatives

LAB 187 Special Assistant to the Assistant Secretary for Employment and Training

LAB 189 Special Assistant to the Assistant Secretary, Occupational Safety and Health Administration

LAB 190 Chief of Staff to the Assistant Secretary, Office of Congressional and Intergovernmental Affairs

LAB 191 Chief Economist to the Assistant Secretary for Policy

LAB 192 Special Assistant to the Assistant Secretary, Pension and Welfare Benefits

LAB 194 Director of Scheduling and Advance to the Secretary of Labor

LAB 195 Special Assistant to the Deputy Assistant Secretary for Employment and Training

LAB 197 Research Assistant to the Assistant Secretary for Congressional and Intergovernmental Affairs

LAB 199 Research Assistant to the Assistant Secretary for Congressional and Intergovernmental Affairs

LAB 203 Special Assistant to the Assistant Secretary for Veterans' Employment and Training

LAB 204 Special Assistant to the Assistant Secretary for Veterans' Employment and Training

LAB 205 Staff Assistant to the Executive Assistant

LAB 208 Senior Legislative Officer to the Assistant Secretary for Congressional and Intergovernmental Affairs

LAB 209 Special Assistant to the Assistant Secretary for Veterans' Employment and Training

LAB 210 Special Assistant to the Secretary of Labor

LAB 211 Staff Assistant to the Executive Secretary

LAB 212 Associate Deputy Secretary to the Deputy Secretary

LAB 214 Staff Assistant to the Director, Office of Faith-Based Initiatives

LAB 215 Special Assistant to the Assistant Secretary for Occupational Safety and Health

LAB 217 Senior Legislative Officer to the Assistant Secretary for Congressional and Intergovernmental Affairs

LAB 218 Staff Assistant to the Assistant Secretary, Office of Congressional and Intergovernmental Affairs

LAB 220 Special Assistant to the Assistant Secretary for Public Affairs

LAB 222 Staff Assistant to the Deputy Secretary of Labor

LAB 224 Staff Assistant to the Assistant Secretary for Mine Safety and Health

LAB 230 Special Assistant to the Deputy Secretary of Labor

LAB 231 Staff Assistant to the Chief of Staff

LAB 237 Special Assistant to the Director, 21st Century Workforce

LAB 239 Associate Deputy Secretary to the Deputy Secretary of Labor

LAB 241 Special Assistant to the Assistant Secretary for Public Affairs

LAB 242 Special Assistant to the Assistant Secretary for Policy

LAB 244 Staff Assistant to the Director of Scheduling

LAB 245 Special Assistant to the Director, Office of Faith-Based and Community Initiatives

LAB 246 Staff Assistant to the Director, 21st Century Workforce

LAB 247 Research Assistant to the Assistant Secretary for Congressional and Intergovernmental Affairs

LAB 249 Research Assistant to the Assistant Secretary, Office of Congressional and Intergovernmental Relations

LAB 254 Senior Intergovernmental Officer to the Assistant Secretary for Congressional and Intergovernmental Affairs

LAB 255 Staff Assistant to the Director, 21st Century Workforce

LAB 256 Special Assistant to the Deputy Assistant Secretary, Office of Labor Management Standards

LAB 265 Staff Assistant to the Deputy Assistant Secretary, Office of Labor-Management Standards

LAB 266 Special Assistant to the Deputy Under Secretary for International Labor Affairs

LAB 267 Special Assistant to the Assistant Secretary for Administration and Management

LAB 270 Special Assistant to the Assistant Secretary for Employment and Training Administration

LAB 273 Special Assistant to the Assistant Secretary for Administration and Management

LAB 277 Special Assistant to the Assistant Secretary for Administration Management

LAB 278 Special Assistant to the Chief Financial Officer

Section 213.3316 Department of Health and Human Services

HHS 2 Special Assistant to the Chief of Staff

HHS 14 Director, Correspondence Control Center to the Executive Secretary

HHS 17 Director of Scheduling to the Chief of Staff

HHS 31 Special Assistant to the Secretary of Health and Human Services

HHS 53 Special Assistant to the Administrator, Human Resources and Services Administration

HHS 187 Special Assistant to the Deputy Assistant Secretary for Legislation

HHS 204 Special Assistant to the White House Liaison for Political Personnel, Boards and Commissioners

HHS 236 Secretary's Regional Representative to the Director of Intergovernmental Affairs

HHS 237 Secretary's Regional Representative to the Director of Intergovernmental Affairs

HHS 240 Secretary's Regional Representative to the Director of Intergovernmental Affairs

HHS 243 Secretary's Regional Representative, Atlanta GA, to the Director of Intergovernmental Affairs

HHS 244 Secretary's Regional Representative, Seattle, WA, to the Director of Intergovernmental Affairs

HHS 247 Secretary's Regional Representative, Philadelphia, PA to the Director of Intergovernmental Affairs

HHS 252 Secretary's Regional Representative, Washington, DC to the Director of Intergovernmental Affairs

HHS 255 Secretary's Regional Representative, Chicago, Il, to the Director of Intergovernmental Affairs

HHS 268 Special Assistant to the Executive Secretary, Office of the Secretary

HHS 293 Special Assistant to the Commissioner, Administration for Children, Youth and Families

HHS 307 Deputy Director to the Director of the Center for Faith-Based and Community Initiatives

HHS 315 Special Assistant to the Director, Office of Intergovernmental Affairs

HHS 331 Special Assistant to the Administrator, Centers for Medicare and Medicaid Services

HHS 332 Associate Commissioner Children's Bureau to the Commissioner, Administration for Children Youth and Families

HHS 334 Director, Office of International and Refugees Health to the Assistant Secretary for Health

HHS 336 Special Assistant to the Deputy Assistant Secretary for Legislation (Human Services)

HHS 346 Congressional Liaison Specialist to the Deputy Assistant Secretary for Legislation (Congressional Liaison)

HHS 347 Congressional Liaison Specialist to the Deputy Assistant Secretary for Legislation, Office of Congressional Liaison

HHS 359 Congressional Liaison Specialist to the Deputy Assistant Secretary for Legislation (Congressional Liaison)

HHS 361 Congressional Liaison Specialist to the Deputy Assistant Secretary for Legislation (Congressional Liaison)

HHS 374 Confidential Assistant to the Executive Secretary

HHS 378 Special Assistant to the Assistant Secretary for Public Affairs

HHS 383 Special Assistant to the Assistant Secretary for Public Affairs

HHS 399 Special Assistant to the Assistant Secretary for Children and Families, Administration for Children and Youth Families

HHS 412 Secretary's Regional Representative to the Director of Intergovernmental Affairs

HHS 417 Secretary's Regional Representative to the Director of Intergovernmental Affairs

HHS 427 Executive Director, President's Committee on Mental Retardation to the Assistant Secretary for Children and Families

HHS 436 Associate Commissioner to the Commissioner, Administration for Children, Youth and Families

HHS 497 Special Assistant for International and Immigration Issues to the Assistant Secretary, Administration for Children and Families

HHS 523 Executive Director, President's Council on Physical Fitness and Sports to the Assistant Secretary for Health

HHS 525 Confidential Assistant to the Chief Operating Officer and Deputy Administrator

HHS 527 Confidential Assistant (Scheduling) to the Director of Scheduling

HHS 539 Special Assistant to the General Counsel

HHS 541 Special Assistant to the Deputy Director, Office of Child Support Enforcement

HHS 549 Speechwriter to the Assistant Secretary for Public Affairs

HHS 553 Director of Communications to the Deputy Assistant Secretary for Public Affairs (Policy and Strategy)

HHS 556 Director of Speechwriting to the Deputy Assistant Secretary for Public Affairs (Media)

HHS 570 Confidential Assistant (Advance) to the Director of Scheduling

HHS 589 Senior Speechwriter to the Assistant Secretary for Public Affairs

HHS 615 Confidential Assistant to the Director of Communications

HHS 628 Special Assistant to the Administrator, Substance Abuse and Mental Health Services Administration

HHS 629 Executive Director, President's Commission of HIV/AIDS to the Assistant Secretary for Health

HHS 632 Special Outreach Coordinator to the Deputy Assistant Secretary for Public Affairs (Policy and Strategy)

HHS 636 Senior Advisor to the Director, Indian Health Service

HHS 638 Special Assistant to the Deputy Assistant Secretary for Policy and External Affairs, Administration for Children and Families

HHS 659 Counselor to the Deputy Secretary

HHS 661 Special Assistant to the Deputy Secretary of Health and Human Services

HHS 664 Deputy Director for Operations to the Director, Office of Intergovernmental Affairs

HHS 665 Deputy Director for Policy to the Director of Intergovernmental Affairs

HHS 667 Confidential Assistant to the Executive Secretary

HHS 672 Deputy Director to the Director of Scheduling

HHS 675 Special Assistant to the Assistant Secretary for Aging

HHS 682 Executive Director, President's Advisory Commission and White House Initiative on Asian Americans and Pacific Islanders to the Director, Office of Intergovernmental Affairs

Section 213.3317 Department of Education

EDU 2 Deputy Assistant Secretary to the Assistant Secretary, Legislation and Congressional Affairs

EDU 4 Special Assistant to the Director, White House Liaison

EDU 6 Confidential Assistant to the Chief of Staff to the Under Secretary

EDU 8 Confidential Assistant to the Director, Scheduling and Briefing Staff

EDU 9 Special Assistant to the Director, Office of Public Affairs (Communications Director)

EDU 11 Steward to the Chief of Staff

EDU 12 Deputy Secretary's Regional Representative, Region IV to the Deputy Assistant Secretary for Regional Services

EDU 15 Special Assistant to the Secretary's Regional Representative, Atlanta, Georgia

EDU 16 Confidential Assistant to the Chief of Staff

EDU 21 Confidential Assistant to the Assistant Secretary for Legislation and Congressional Affairs

EDU 25 Executive Assistant to the Deputy Secretary

EDU 26 Special Assistant to the Deputy Secretary

EDU 28 Deputy to the Secretary's Regional Representative, Dallas, Texas

EDU 29 Special Assistant to the Deputy Secretary

EDU 31 Counselor to the Deputy Secretary

EDU 32 Confidential Assistant to the Director, Scheduling and Briefing Staff

EDU 33 Deputy Assistant Secretary for Regional Services to the Assistant Secretary, Office of Intergovernmental and Interagency Affairs

EDU 37 Deputy Assistant Secretary for Intergovernmental, Constituent Relations and Corporate Liaison to the Assistant Secretary, Office for Intergovernmental and Interagency Affairs

EDU 38 Secretary's Regional Representative, Region I to the Deputy Assistant Secretary for Regional Services

EDU 40 Special Assistant to the Secretary of Education

EDU 41 Confidential Assistant to the Assistant Secretary for Legislation and Congressional Affairs

EDU 44 Special Assistant to the Deputy Secretary

EDU 45 Special Assistant to the Assistant Secretary for Special Education and Rehabilitative

EDU 46 Special Assistant to the Assistant Secretary for Legislation and Congressional Affairs

EDU 48 Special Assistant to the General Counsel

EDU 49 Confidential Assistant to the Assistant Secretary for Elementary and Secondary Education

EDU 50 Confidential Assistant to the Assistant Secretary for Elementary and Secondary Education

EDU 51 Confidential Assistant to the Director of Scheduling and Briefing

EDU 52 Deputy Director to the Director, Office of Bilingual Education and Minority Language Affairs

EDU 54 Special Assistant to the Deputy Assistant Secretary for Intergovernmental, Constituent Relations and Corporate Liaison

EDU 55 Secretary's Regional Representative, Region VIII to the Deputy Assistant Secretary for Regional Services

EDU 57 Special Assistant to the Deputy Assistant Secretary for Regional Services

EDU 58 Confidential Assistant to the Deputy Assistant Secretary for Enforcement

EDU 59 Special Assistant to the Chief of Staff

EDU 60 Press Secretary to the Director, Office of Public Affairs

EDU 61 Confidential Assistant to the Director, Scheduling and Briefing Staff

EDU 62 Confidential Assistant to the Director, Scheduling and Briefing Staff

EDU 63 Confidential Assistant to the Counselor to the Secretary

EDU 64 Secretary's Regional Representative, Region II to the Deputy Assistant Secretary for Regional Services

EDU 66 Confidential Assistant to the Chief of Staff

EDU 67 Confidential Assistant to the Senior Advisor to the Secretary of Education

EDU 68 Confidential Assistant to the Chief of Staff to the Deputy Secretary

EDU 69 Special Assistant to the Chief of Staff

EDU 71 Special Assistant to the Director, Office of Public Affairs

EDU 72 Confidential Assistant to the Director, Office of Bilingual and Minority Languages Affairs

EDU 73 Special Assistant to the Commissioner of Rehabilitative Service Administration

EDU 74 Confidential Assistant to the Assistant Secretary for Elementary and Secondary Education

EDU 75 Special Assistant to the Assistant Secretary for Elementary and Secondary Education

EDU 76 Special Assistant to the Assistant Secretary, Office of Elementary and Secondary Education

EDU 77 Special Assistant to the Director, Scheduling and Briefing Staff

EDU 78 Special Assistant to the Deputy Assistant Secretary for Regional Services

EDU 79 Confidential Assistant to the Director, Scheduling and Briefing Staff

EDU 80 Confidential Assistant to the Chief of Staff to the Deputy Secretary

EDU 83 Special Assistant to the Chief of Staff

EDU 85 Secretary's Regional Representative, San Francisco, California, to the Deputy Secretary for Regional Services

EDU 86 Special Assistant to the Assistant Secretary for Management

EDU 87 Confidential Assistant to the Assistant Secretary for Management

EDU 88 Special Assistant to the Deputy Secretary

EDU 89 Special Assistant to the Assistant Secretary for Postsecondary Education

EDU 92 Secretary's Regional Representative, Region V to the Deputy Assistant Secretary for Regional Services

EDU 93 Special Assistant to the Assistant Secretary for Elementary and Secondary Education

EDU 96 Special Assistant to the Deputy Assistant Secretary for Intergovernmental, Constituent Relations and Corporate Liaison

EDU 101 Special Assistant to the Chief of Staff

EDU 102 Confidential Assistant to the Chief of Staff

EDU 103 Special Assistant to the Assistant Secretary for Vocational and Adult Education

EDU 104 Special Assistant to the Senior Advisor to the Secretary

EDU 106 Special Assistant to the Deputy Assistant Secretary for Intergovernmental, Constituent Relations and Corporate Liaison

EDU 107 Special Assistant to the Assistant Secretary for Elementary and Secondary Education

EDU 108 Special Assistant to the Assistant Secretary for Postsecondary Education

EDU 109 Confidential Assistant to the Assistant Secretary for Postsecondary Education

EDU 110 Special Assistant to the Director, Office of Public Affairs

EDU 112 Confidential Assistant to the Assistant Secretary for Elementary and Secondary Education

EDU 113 Special Assistant to the Director, Office of Public Affairs

EDU 115 Secretary's Regional Representative, Region X to the Deputy Assistant Secretary for Regional Services

EDU 116 Secretary's Regional Representative to the Deputy Assistant Secretary for Regional Services

EDU 117 Confidential Assistant to the Director, Office of Public Affairs

EDU 119 Special Assistant to the Chief of Staff

EDU 120 Director, Office of Scheduling and Briefing to the Chief of Staff

EDU 122 Secretary's Regional Representative, Region 7 to the Deputy Assistant Secretary for Regional Services

EDU 123 Confidential Assistant to the Assistant Secretary for Vocational and Adult Education

EDU 124 Special Assistant to the Assistant Secretary for Postsecondary Education

EDU 125 Special Assistant (Executive Assistant) to the Assistant Secretary, Office of Intergovernmental and Interagency Affairs

EDU 126 Deputy Secretary's Regional Representative, Region I to the Deputy Assistant Secretary for Regional Services

EDU 127 Special Assistant to the Assistant Secretary for Vocational and Adult Education

EDU 128 Special Assistant to the Assistant Secretary for Special Education and Rehabilitative Services

EDU 129 Special Assistant to the Assistant Secretary for Special Education and Rehabilitative Services

EDU 130 Special Assistant to the Director, Office English Language Acquisition

EDU 131 Special Assistant to the Assistant Secretary for Civil Rights

EDU 132 Confidential Assistant to the Deputy Assistant Secretary, Office of Special Education and Rehabilitative Services

EDU 133 Special Assistant to the Deputy Secretary

EDU 135 Confidential Assistant to the Executive Assistant Office of Intergovernmental Affairs

EDU 137 Special Assistant to the Chief of Staff

EDU 138 Special Assistant to the Chief of Staff

EDU 139 Deputy Chief of Staff for Strategy/Policy to the Chief of Staff

EDU 140 Deputy Chief of Staff for Operations to the Chief of Staff

EDU 142 Secretary's Regional Representative, Region IV, Atlanta, Georgia to the Deputy Assistant Secretary for Regional Services

EDU 143 Confidential Assistant to the Director, Faith-Based and Community Initiatives Center

EDU 144 Special Assistant to the Director, White House Initiatives on Hispanic Education

EDU 146 Confidential Assistant to the Director, White House Initiatives on Hispanic Education

EDU 148 Director, White House Initiatives on Hispanic Education to the Secretary of Education

EDU 149 Confidential Assistant to the Director, White House Initiatives on Tribal Colleges and Universities

EDU 150 Special Assistant to the Director, White House Initiatives on Tribal Colleges and Universities

EDU 151 Special Assistant to the Chief of Staff

EDU 152 Confidential Assistant to the Director, Faith Based and Community Initiatives Center

EDU 153 Confidential Assistant to the Director, Faith-Based and Community Initiatives Center

EDU 154 Director, Faith-Based and Community Initiatives Center to the Secretary of Education

EDU 155 Special Assistant to the Director, White House Initiatives on Hispanic Education

EDU 156 Confidential Assistant to the Director, White House Initiatives on Hispanic Education

EDU 157 Confidential Assistant to the Director, White House Initiatives on Hispanic Education

EDU 158 Confidential Assistant to the Chief of Staff

EDU 159 Special Assistant to the Assistant Secretary for Elementary and Secondary Education

EDU 164 Confidential Assistant to the Chief of Staff

EDU 166 Executive Assistant to the Assistant Secretary for Postsecondary Education

EDU 171 Special Assistant to the Assistant Secretary for Intergovernmental and Interagency Affairs

EDU 175 Special Assistant to the Assistant Secretary, Office of Vocational and Adult Education

EDU 176 Confidential Assistant to the Deputy Assistant Secretary for Legislation and Congressional Affairs

EDU 180 Confidential Assistant to the Deputy Assistant Secretary for Regional Services

Section 213.3318 Environmental Protection Agency

EPA 1 Special Assistant (Advance Person) to the Administrator

EPA 5 Director, Office of Information and Special Initiatives to the Associate Administrator for the Office of Public Affairs

EPA 10 Program Advisor (Press Officer) to the Associate Administrator for Communications, Education and Media Relations

EPA 14 Special Assistant to the Associate Administrator for Congressional and Intergovernmental Relations

EPA 18 Special Assistant to the Administrator

EPA 39 Special Assistant to the Associate Administrator for the Office of Communications, Education and Media Relations

EPA 41 Deputy Associate Assistant Administrator to the Associate Administrator, Office of Public Affairs

EPA 42 Director of Scheduling to the Associate Administrator for the Office of Public Affairs

EPA 50 Program Assistant to the Assistant Administrator for Air and Radiation

EPA 52 Special Assistant to the Associate Administrator for Communications, Education, and Media Relations

EPA 56 Program Advisor (Publications) to the Associate Administrator for Communications, Education and Media Relations

EPA 61 Program Advisor to the Assistant Administrator for Policy, Economics and Innovation

EPA 62 Public Affairs Specialist to the Associate Administrator

EPA 63 Special Assistant to the Director of Operations

EPA 64 Associate Assistant Administrator to the Assistant Administrator for Office of Prevention, Pesticides and Toxic Substances

EPA 65 Recycling Communications Advisor to the Deputy Director, Office of Solid Waste and Emergency Response

EPA 68 Associate Assistant Administrator to the Assistant Administrator for Solid Waste and Emergency Response

EPA 69 Special Assistant for Communications to the Assistant Administrator, Office of Water

EPA 70 Associate Regional Administrator to the Regional Administrator, Middle Atlantic Region

EPA 71 Senior Advisor to the Assistant Administrator for International Activities

EPA 72 Director, Office of Regional Operations to the Associate Administrator for Congressional and Intergovernmental Relations

EPA 73 Senior Advisor on Outreach to the Assistant Administrator for Solid Waste and Emergency Response

EPA 74 Policy Analyst to the Assistant Administrator, Office of Air and Radiation

EPA 75 Deputy Associate Administrator to the Associate Administrator, Office of Congressional Affairs

EPA 76 Senior Counsel to the Associate Administrator for Congressional and Intergovernmental Relations

EPA 77 Special Assistant to the General Counsel

EPA 78 Program Advisor (Advance Person) to the Administrator

EPA 81 Director, Advance Staff to the Director of Long-Range Communications Planning

EPA 82 Special Assistant to the Associate Administrator for the Office of Public Affairs

EPA 83 Director of Long Term Communication Planning to the Administrator

Section 213.3323 Federal Communications Commission

FCC 5 Special Assistant to the Director, Office of Media Relations

FCC 6 Deputy Director to the Director, Office of Legislative and Intergovernmental Affairs

FCC 7 Senior Advisor to the Director, Office of Legislative and Intergovernmental Affairs

Section 213.3323 Overseas Private Investment Corporation

OPIC 18 Executive Assistant to the President and Chief Executive Officer

OPIC 19 Confidential Assistant to the Chief of Staff

OPIC 20 Executive Assistant to the Executive Vice President

OPIC 21 Confidential Assistant to the Chief of Staff

Section 213.3325 United States Tax Court

TCOUS 42 Secretary and Confidential Assistant to a Judge

TCOUS 43 Secretary and Confidential Assistant to a Judge

TCOUS 44 Secretary and Confidential Assistant to a Judge

TCOUS 45 Secretary and Confidential Assistant to a Judge

TCOUS 46 Secretary and Confidential Assistant to a Judge

TCOUS 47 Secretary and Confidential Assistant to a Judge

TCOUS 49 Secretary and Confidential Assistant to a Judge

TCOUS 50 Secretary and Confidential Assistant to a Judge

TCOUS 51 Secretary and Confidential Assistant to a Judge

TCOUS 52 Secretary and Confidential Assistant to a Judge

TCOUS 53 Secretary and Confidential Assistant to a Judge

TCOUS 56 Secretary and Confidential Assistant to a Judge

TCOUS 59 Secretary and Confidential Assistant to a Judge

TCOUS 60 Secretary and Confidential Assistant to a Judge

TCOUS 61 Secretary and Confidential Assistant to a Judge

TCOUS 62 Secretary and Confidential Assistant to a Judge

TCOUS 63 Secretary and Confidential Assistant to a Judge.

TCOUS 64 Secretary and Confidential Assistant to a Judge

TCOUS 65 Secretary and Confidential Assistant to a Judge

TCOUS 66 Trial Clerk to a Judge

TCOUS 68 Trial Clerk to a Judge

TCOUS 69 Trial Clerk to a Judge

TCOUS 70 Trial Clerk to a Judge

TCOUS 72 Trial Clerk to a Judge

TCOUS 73 Trial Clerk to a Judge

TCOUS 77 Trial Clerk to a Judge

TCOUS 78 Trial Clerk to a Judge

TCOUS 82 Secretary and Confidential Assistant to a Judge

Section 213.3327 Department of Veterans Affairs

VA 5 Special Assistant to the Secretary of Veteran Affairs

VA 8 Special Assistant to the Dean, Veteran Affairs Learning University

VA 15 Special Assistant to the Special Assistant (Supervisory Regional Veterans Service Liaison Officer)

VA 30 Special Assistant to the Special Assistant (Supervisory Regional Veterans Service Liaison Officer)

VA 34 Director, Congressional Affairs to the Assistant Secretary for Congressional and Legislative Affairs

VA 42 Special Assistant to the Assistant Secretary for Public and Intergovernmental Affairs

VA 56 Special Assistant to the Special Assistant (Supervisory Regional Veterans Service Liaison Officer)

VA 72 Special Assistant to the Assistant Secretary for Congressional and Legislative Affairs

VA 73 Special Assistant (Deputy White House Liaison) to the Deputy Assistant Secretary for Public Affairs

VA 75 Special Assistant to the Special Assistant (Supervisory Regional Veterans Service Liaison Officer)

VA 81 Special Assistant to the Special Assistant (Supervisor Regional Veterans Service Liaison Officer)

VA 85 Special Assistant (Supervisory Regional Veterans Service Liaison Officer) to the Assistant Secretary for Public and Intergovernmental Affairs

VA 96 Special Assistant to the Special Assistant (Supervisory Regional Veterans Service Liaison Officer)

VA 99 Special Assistant to the Assistant Secretary for Public and Intergovernmental Affairs

VA 106 Special Assistant to the Assistant Secretary for Congressional and Legislative Affairs

Section 213.3328 Broadcasting Board of Governors

BBG 4 Staff Director to the Director, Office the Advisory Board for Cuba Broadcasting

BBG 5 Senior Projects Officer to the Director, Voice of America

BBG 6 Senior Projects Officer to the Director, Voice of America

Section 213.3330 Securities and Exchange Commission

SEC 2 Confidential Assistant to a Commissioner

SEC 3 Confidential Assistant to a Commissioner

SEC 4 Director of Legislative Affairs to the Director of Communications

SEC 8 Secretary (OA) to the Chief Accountant

SEC 9 Secretary to the General Counsel

SEC 11 Confidential Assistant to the Chairman

SEC 12 Deputy Director to the Director of Public Affairs

SEC 14 Secretary to the Director, Market Regulation

SEC 16 Secretary to the Director, Enforcement

SEC 18 Secretary to the Director, Division of Investment Management

SEC 19 Secretary to the Director, Corporation Finance

SEC 28 Confidential Assistant to the Chairman of the Securities and Exchange Commission

SEC 29 Secretary to the Deputy Director of Market Regulation

SEC 32 Director of Public Affairs to the Director of Communications

SEC 39 Director of Communications to the Chairman

SEC 41 Senior Advisor for Legislative Affairs to the Director of Communications

Section 213.3331 Department of Energy

DOE 103 Special Assistant to the Director, Civilian Radioactive Waste Management

DOE 104 Special Assistant to the Director, Office of Public Affairs

DOE 114 Special Assistant to the Director, Office of Public Affairs

DOE 115 Special Advisor to the Chief of Staff

DOE 116 Special Assistant to the Administrator, Energy Information Administration

DOE 121 Special Assistant to the Director, Office of Scheduling and Advance

DOE 124 Congressional Affairs Officer to the Director, Special Assistant for Congressional Affairs, National Nuclear Security Administration

DOE 128 Senior Policy Advisor to the Secretary

DOE 129 Special Assistant to the Chief Information Officer

DOE 134 Special Assistant to the Assistant Secretary for Fossil Energy

DOE 139 Public Affairs Specialist to the Director, Office of Public Affairs

DOE 140 Senior Advisor to the Director, Office of Nuclear Energy, Science and Technology

DOE 141 Special Assistant to the Principal Deputy Assistant Secretary, Office of Congressional and Intergovernmental Affairs

DOE 147 Staff Assistant to the Assistant Secretary for Fossil Energy

DOE 150 Senior Advisor to the Principal Deputy Assistant Secretary

DOE 151 Special Projects Officer to the Director, Office of Public Affairs

DOE 173 Senior Policy Advisor to the Secretary of Energy

DOE 174 Senior Policy Advisor to the Secretary of Energy

DOE 180 Deputy Director to the Director, Public Affairs

DOE 186 Executive Assistant to the Under Secretary

DOE 189 Assistant Secretary for International Affairs

DOE 201 Special Assistant to the Assistant Secretary for Environment, Safety and Health

DOE 204 Special Assistant to the Assistant Secretary for Fossil Energy

DOE 205 Senior Advisor, Legislative Affairs to the Assistant Secretary for Energy Efficiency and Renewable Energy

DOE 206 Chief of Staff to the Assistant Secretary for Energy Efficiency and Renewable Energy

DOE 207 Trip Coordinator to the Deputy Director for Advance

DOE 209 Deputy Director of Scheduling to the Director of Scheduling and Advance

DOE 211 Daily Scheduler to the Director of Scheduling and Advance

DOE 212 Senior Advisor, Communications to the Principal Deputy Assistant Secretary for Energy, Efficiency and Renewable Energy

DOE 213 Senior Legislative Officer to the Assistant Secretary for Congressional and Intergovernmental Affairs

DOE 215 Staff Assistant to the Director, Office of Scheduling and Advance

DOE 216 Special Assistant to the Secretary of Energy

DOE 217 Director, Press Office to the Director, Office of Public Affairs

DOE 218 Special Assistant for Communications to the Director, Office of Civilian Radioactive Waste Management

DOE 220 Policy Advisor to the Secretary of Energy

DOE 221 Senior Policy Advisor to the Assistant Secretary for Environmental Management

DOE 222 Special Assistant to the Secretary of Energy

DOE 224 Senior Policy Advisor for North American Affairs to the Assistant Secretary for Policy and International Affairs

DOE 225 Senior Policy Advisor for Middle East Affairs to the Assistant Secretary for Policy and International Affairs

DOE 226 Senior Advisor to the Executive Director for the Secretary of Energy Advisory Board

DOE 228 Chief of Staff to the Director, Office of Economic Impact and Diversity

DOE 230 Deputy Assistant Secretary, Senate Liaison to the Assistant Secretary for Congressional and Intergovernmental Affairs

DOE 232 Special Assistant to the Assistant Secretary for Fossil Energy

DOE 233 Special Assistant to the Assistant Secretary for Policy and International Affairs

DOE 234 Program Manager (Energy Reliability) to the Director, Office of Security

DOE 235 Special Assistant to the Assistant Secretary for Energy and Renewable Energy

DOE 237 Policy Advisor to the Secretary of Energy

DOE 238 Deputy Director to the Director, Office of Economic Impact and Diversity

DOE 240 White House Liaison to the Secretary of Energy

DOE 241 Special Assistant to the Deputy Secretary of Energy

DOE 242 Policy Advisor to the Director, Office of Worker and Community Transition

DOE 243 Special Assistant for Intergovernmental Affairs to the Assistant Secretary for Environmental Management

DOE 244 Congressional Affairs Officer to the Assistant Secretary for Fossil Energy

DOE 245 Senior Policy Advisor to the Assistant Secretary for Fossil Energy

DOE 246 Trip Coordinator to the Director, Office of Scheduling and Advance

DOE 247 Advance and Trip Coordinator to the Director, Office of Scheduling and Advance

DOE 248 Deputy Director of Advance for Strategic Initiatives to the Director, Office of Scheduling and Advance

DOE 249 Deputy Director of Advance for Operations to the Director, Office of Scheduling and Advance

DOE 250 Confidential Assistant to the Assistant Secretary for Congressional and Intergovernmental Affairs

DOE 251 Special Assistant to the Assistant Secretary for Congressional and Intergovernmental Affairs

DOE 252 Special Assistant to the Deputy Assistant Secretary for Policy, Planning and Budget

DOE 253 Director of Intergovernmental Affairs to the Deputy Assistant Secretary for Intergovernmental and External Affairs

DOE 255 Senior Policy Advisor to the Assistant Secretary for Policy and International Affairs

DOE 256 Intergovernmental Liaison Officer to the Deputy Assistant Secretary for Intergovernmental and External Affairs

DOE 257 Deputy Assistant Secretary for National Security to the Assistant Secretary for Congressional and Intergovernmental Affairs

DOE 259 Deputy Assistant Secretary for Energy Policy to the Assistant Secretary for Congressional and Intergovernmental Affairs

DOE 260 Senior Policy Advisor to the Assistant Secretary for Congressional and Intergovernmental Affairs

DOE 261 Associate Deputy Assistant Secretary to the Deputy Assistant Secretary for Energy Policy

DOE 262 Deputy Assistant Secretary for Budget and Appropriations to the Assistant Secretary for Congressional and Intergovernmental Affairs

DOE 263 Congressional Liaison Officer to the Deputy Assistant Secretary for Environment and Science

DOE 264 Senior Policy Advisor to the Chief Financial Officer/Director, Office of Management Budget and Evaluation

DOE 265 Senior Advisor, Congressional and Intergovernmental Affairs to the Director, Office of Science

DOE 266 Senior Advisor to the Assistant Secretary for Environmental Management

DOE 267 Special Assistant to the Assistant Secretary for Fossil Energy

DOE 268 Senior Manager of Public Affairs, National Nuclear Security Administration to the Director, Congressional, Intergovernmental and Public Affairs

Federal Energy Regulatory Commission

FERC 1 Regulatory Policy Analyst to the Director, Office of Markets, Tariffs and Rates

FERC 2 Confidential Assistant to a Member of the Commission

FERC 3 Confidential Assistant to a Member of the Commission

Section 213.3332 Small Business Administration

SBA 10 Special Assistant to the Chief Operating Officer

SBA 12 Director of Advisory Councils to the Associate Administrator for Communications and Public Liaison

SBA 18 Special Assistant to the Administrator

SBA 20 Senior Advisor to the Associate Deputy Administrator for Government Contracting and Business Development

SBA 30 Senior Advisor to the Associate Deputy Administrator for Government Contracting and Business Development

SBA 39 Assistant Administrator for Public Communications to the Associate Administrator for Communications and Public Liaison

SBA 63 Special Assistant to the Associate Administrator for Communications and Public Liaison

SBA 76 Special Assistant to the Associate Administrator for Women's Business Ownership

SBA 84 Director of International Trade to the Associate Deputy Administrator for Capital Access

SBA 92 Special Assistant (Scheduling) to the Administrator

SBA 98 Staff Assistant to the Administrator

SBA 124 Special Assistant to the Assistant Administrator for Congressional and Legislative Affairs

SBA 134 Special Assistant to the Assistant Administrator for Congressional and Legislative Affairs

SBA 143 Policy Advisor to the Administrator

SBA 145 Senior Advisor to the Assistant Administrator for International Trade

SBA 146 Special Assistant to the Assistant Administrator for Communications and Public Liaison

SBA 153 Deputy Director to the Director of Intergovernmental Affairs

SBA 155 Special Assistant to the Assistant Administrator for International Trade

SBA 157 Senior Advisor to the Associate Deputy Administrator for Capital Access

SBA 160 Senior Advisor to the Assistant Administrator for International Trade

SBA 169 Regional Administrator, Region I, Boston, MA to the Associate Administrator for Field Operations

SBA 170 Regional Administrator, Region VIII, Denver, CO, to the Associate Administrator for Field Operations

SBA 171 Regional Administrator, Region VII, Kansas, MS, to the Associate Administrator for Field Operations

SBA 173 Regional Administrator, Region VI, Dallas, TX, to the Associate Administrator for Field Operations

SBA 174 Regional Administrator, Region V, Chicago, IL to the Associate Administrator for Field Operations

SBA 175 Regional Administrator, Region IV, Atlanta, GA, to the Associate Administrator for Field Operations

SBA 176 Regional Administrator, Region II, New York, NY, to the Associate Administrator, Field Operations

SBA 179 Deputy Press Secretary and Senior Advisor to the Associate Administrator for Communications and Public Liaison

SBA 188 Regional Administrator, Region IX, San Francisco, CA to the Associate Administrator for Field Operations

SBA 189 Regional Administrator, Region X, Seattle, WA, to the Associate Administrator for Field Operations

SBA 208 Special Assistant to the Associate Deputy Administrator of Entrepreneurial Development

SBA 216 Senior Policy Advisor to the Administrator

Section 213.3333 Federal Deposit Insurance Corporation

FDIC 11 Secretary to the Chairman

Section 213.3334 Federal Trade Commission

FTC 1 Director, Office of Public Affairs to the Chairman

FTC 2 Congressional Liaison Specialist to the Director, Office of Congressional Relations

FTC 3 Secretary, to the Director, Bureau of Competition

FTC 4 Deputy Director to the Director, Office of Public Affairs

FTC 5 Consumer Liaison Specialist to the Director, Office of Education

FTC 23 Special Assistant to a Commissioner

FTC 26 Confidential Assistant to a Commissioner

FTC 27 Confidential Assistant to a Commissioner

Section 213.3337 General Services Administration

GSA 24 Special Assistant to the Chief of Staff, Public Building Service

GSA 26 Special Assistant to the Chief of Staff, Public Buildings Service

GSA 44 Senior Policy Advisor to the Administrator

GSA 69 Events Management Specialist to the Director of External Affairs

GSA 75 Chief Technology Officer to the Associate Administrator for Communications

GSA 89 Confidential Assistant to the Administrator

GSA 90 Deputy Associate Administrator to the Associate Administrator for Congressional and Intergovernmental Affairs

GSA 94 Congressional Relations Officer to the Associate Administrator for Congressional and Intergovernmental Affairs

GSA 95 White House Liaison to the Chief of Staff

GSA 119 Senior Advisor to the Regional Administrator, Great Lakes Region

GSA 131 Director of External Affairs to the Associate Administrator for Communications

Section 213.3339 U.S. International Trade Commission I

TC 5 Executive Assistant to a Commissioner

ITC 6 Staff Assistant (Economics) to a Commissioner

ITC 15 Executive Assistant to a Commissioner

ITC 18 Staff Assistant (Legal) to a Commissioner

ITC 19 Staff Economist to a Commissioner

ITC 22 Staff Assistant to a Commissioner

ITC 25 Staff Assistant (Economics) to the Chairman

ITC 30 Confidential Assistant to a Commissioner

ITC 31 Executive Assistant to a Commissioner

ITC 36 Executive Assistant to a Commissioner

Section 213.3340 National Archives and Records Administration

NARA 3 Presidential Diarist to the Archivist of the United States

Section 213.3342 Export-Import Bank of the United States

EXIM 44 Special Assistant to the Vice President of Public Affairs

EXIM 45 Administrative Assistant to the Director, a Member of the Board of Directors

EXIM 50 Administrative Specialist to the Executive Assistant to the President and Chairman

EXIM 53 Administrative Assistant to a Member, Board of Directors

EXIM 54 Special Assistant to the Vice President for Congressional and External Affairs

Section 213.3343 Farm Credit Administration

FCA 4 Secretary to the Chairman and CEO

FCA 13 Executive Assistant to a Board Member

FCA 15 Public Affairs Specialist to the Director, Office of Congressional and Public Affairs

FCA 16 Executive Assistant to the Chairman

Section 213.3344 Occupational Safety and Health Review Commission

OSHRC 2 Confidential Assistant to the Chairman

Section 213.3346 Selective Service System

SSS 16 Special Assistant to the Director of Selective Service

Section 213.3348 National Aeronautics and Space Administration

NASA 6 Chief of Staff to the Associate Administrator for Legislative Affairs

NASA 13 Staff Support Specialist to the Associate Administrator for Public Affairs

NASA 14 Special Assistant to the Assistant Administrator for Legislative Affairs

NASA 18 Confidential Assistant to the Administrator

NASA 19 Senior Policy Analyst to the Assistant Administrator for Public Affairs

NASA 20 Writer-Editor to the Assistant Administrator for Public Affairs

NASA 21 Industrial Relations Specialist to the Assistant Administrator for External Affairs

NASA 22 Media Relations Specialist to the Assistant Administrator for Public Affairs

Section 213.3351 Federal Mine Safety and Health Review Commission

FM 17 Confidential Assistant to the Chairman

FM 24 Confidential Assistant to the Chairman

FM 26 Attorney-Advisor (General) to the Chairman

FM 29 Attorney-Advisor to a Commissioner

Section 213.3355 Social Security Administration

SSA 1 Special Assistant to the Deputy Commissioner for Legislation and Congressional Affairs

SSA 2 Special Assistant to the Deputy Commissioner for Communications

SSA 3 Special Assistant to the Commissioner

Section 213.3356 Commission on Civil Rights

CCR 1 Special Assistant to a Commissioner

CCR 10 Special Assistant to the Staff Director

CCR 11 Special Assistant to a Commissioner

CCR 12 Special Assistant to a Commissioner

CCR 13 Special Assistant to a Commissioner

CCR 30 Special Assistant to the Staff Director

CCR 33 Special Assistant to a Commissioner

Section 213.3357 National Credit Union Administration

NCUA 18 Special Assistant for Legislative Affairs to the Director of Public and Congressional Affairs

NCUA 26 Special Assistant for Public Affairs to the Chairman, National Credit Union Administration

Section 213.3360 Consumer Product Safety Commission

CPSC 49 Special Assistant to a Commissioner

CPSC 50 Staff Assistant to a Commissioner

CPSC 61 Staff Assistant to a Commissioner

CPSC 62 Special Assistant to a Commissioner

CPSC 63 Special Assistant to a Commissioner

CPSC 64 Special Assistant (Legal) to a Commissioner

Section 213.3365 U.S. Chemical Safety and Hazard Investigation Board

CSHIB 1 Special Assistant to a Board Member

Section 213.3367 Federal Maritime Commission

FMC 41 Special Advisor to a Commissioner

FMC 42 Counsel to a Commissioner

FMC 45 Counsel to a Commissioner

Section 213.3373 United States Trade and Development Agency

TDA 3 Special Projects Officer to the Director, Trade and Development Agency

Section 213.3376 Appalachian Regional Commission

ARC 12 Senior Policy Advisor to the Federal Co-Chairman

Section 213.3377 Equal Employment Opportunity Commission

EEOC 4 Confidential Assistant to the Director, Office of Legal Counsel

EEOC 8 Confidential Assistant to the Chair

EEOC 29 Special Assistant (Speech Writer) to the Director, Office of Communications and Legislative Affairs

EEOC 32 Senior Advisor to a Commissioner

EEOC 39 Confidential Assistant to the Director, Office of Communications and Legislative Affairs

Section 213.3379 Commodity Futures Trading Commission

CFTC 1 Administrative Assistant to the Chairman

CFTC 3 Administrative Assistant to a Commissioner

CFTC 5 Administrative Assistant to a Commissioner

CFTC 12 Special Assistant to a Commissioner

Section 213.3382 National Endowment for the Arts

NEA 2 Special Assistant to the Chairman

NEA 77 Director of Communications to the Chairman

Section 213.3384 Department of Housing and Urban Development

HUD 2 Senior Counsel to the Deputy to the Chief of Staff for Policy and Programs

HUD 16 Staff Assistant to the Director of Executive Scheduling

HUD 33 Staff Assistant to the Assistant Secretary for Housing

HUD 36 Special Assistant to the Deputy Assistant Secretary for Congressional Relations

HUD 39 Staff Assistant to the Assistant Secretary for Community Planning and Development

HUD 42 Advance Coordinator to the Director, Executive Scheduling

HUD 45 Staff Assistant to the Deputy Assistant Secretary for Congressional and Intergovernmental Relations

HUD 60 Staff Assistant to the Senior Advisor to the Deputy Secretary

HUD 61 Special Assistant to the Director, Center for Faith Based and Community Initiatives

HUD 65 Special Assistant to the Secretary of Housing and Urban Development

HUD 66 Special Assistant to the General Counsel

HUD 68 Special Assistant to the Assistant Secretary for Public Affairs

HUD 78 Advance Coordinator to the Director of Executive Scheduling

HUD 137 Staff Assistant to the Assistant Secretary for Administration

HUD 151 Staff Assistant to the Deputy Assistant Secretary for Public Affairs

HUD 173 Special Assistant to the Chief Financial Officer

HUD 174 Staff Assistant to the Deputy Assistant Secretary for Intergovernmental Relations

HUD 177 Staff Assistant to the Deputy Assistant Secretary for Intergovernmental Affairs

HUD 197 Legislative Officer to the Deputy Assistant Secretary for Legislation

HUD 200 Staff Assistant to the Director of Scheduling

HUD 216 Deputy Assistant Secretary for Special Needs to the Assistant Secretary for Community Planning and Development

HUD 224 Regional Director to the Assistant Deputy Secretary for Field Policy and Management

HUD 238 Special Assistant to the Deputy Secretary

HUD 249 Staff Assistant to the Assistant Deputy Secretary for Field Policy and Management

HUD 258 Principle Director of Executive Secretariat to the Assistant Secretary for Administration

HUD 259 Administrator of The Manufactured Housing Programs to the Assistant Secretary for Housing

HUD 263 Special Assistant to the Assistant Secretary for Public Affairs

HUD 268 Staff Assistant to the Director, Executive Scheduling

HUD 272 Deputy Assistant Secretary for Economic Affairs to the Assistant Secretary for Community Planning and Development

HUD 276 Staff Assistant to the Assistant Secretary for Housing

HUD 281 Special Projects Officer to the Regional Administrator, New York, New York

HUD 286 Staff Assistant to the Assistant Secretary for Public Affairs

HUD 361 Regional Director, Denver Colorado to the Assistant Deputy Secretary for Field Policy and Management

HUD 362 Staff Assistant to the Regional Director, Atlanta, Georgia

HUD 390 Special Assistant to the Deputy Assistant Secretary for Intergovernmental Affairs

HUD 391 Special Assistant to the Regional Director, Philadelphia, Pennsylvania

HUD 405 Special Assistant to the Regional Director, Chicago, Illinois

HUD 418 Advance Coordinator to the Director of Executive Scheduling

HUD 419 Special Assistant (Speech Writer) to the Assistant Secretary for Public Affairs

HUD 427 Staff Assistant to the Assistant Secretary for Community Planning and Development

HUD 429 Staff Assistant to the Assistant Secretary for Public Affairs

HUD 430 Staff Assistant to the Assistant Secretary for Public and Indian Housing

HUD 431 Regional Director, Kansas City, Kansas to the Assistant Deputy Secretary for Field Policy and Management

HUD 449 Staff Assistant to the Deputy Assistant Secretary for Congressional and Intergovernmental Relations

HUD 452 Deputy Director to the Director of Faith Based and Community Initiatives

HUD 462 Staff Assistant to the Assistant Secretary for Community Planning and Development

HUD 469 Special Assistant to the Chief Financial Officer

HUD 477 Special Assistant to the Assistant Secretary for Public and Indian Housing

HUD 516 General Deputy Assistant Secretary for Housing to the Assistant Secretary for Housing-Federal Housing Commissioner

HUD 526 Special Assistant to the Assistant Secretary for Congressional and Intergovernmental Relations

HUD 543 Staff Assistant to the Director of Executive Scheduling

HUD 555 Staff Assistant to the Deputy Chief of Staff for Policy and Programs

HUD 556 Special Assistant to the Assistant Secretary for Fair Housing and Equal Opportunity

HUD 558 Special Assistant to the Deputy Assistant Secretary for Congressional and Intergovernmental Relations

HUD 571 Deputy Assistant Secretary for International Affairs to the Assistant Secretary for Policy Development and Research

HUD 603 Staff Assistant to the Deputy Assistant Secretary for Congressional and Intergovernmental Relations

Section 213.3388 President's Commission on White House Fellowships

PCWHF 2 Associate Director to the Executive Director

PCWHF 3 Outreach Coordinator to the Executive Director

PCWHF 6 Education Director to the Executive Director

Section 213.3389 National Mediation Board

NMB 56 Confidential Assistant to the Chairman

Section 213.3391 Office of Personnel Management

OPM 1 Deputy Chief of Staff to the Chief of Staff

OPM 3 Special Assistant to the Director, Office of Communications

OPM 4 Special Assistant to the Director, Office of Congressional Relations

OPM 5 Special Assistant to the Director, Office of Congressional Relations

OPM 6 Special Assistant to the Chief of Staff

OPM 7 Special Assistant to the Director, Office of Congressional Relations

OPM 8 Special Assistant to the Director, Office of Communications

OPM 10 Special Initiatives Coordinator to the Director, Office of Communications

OPM 11 Deputy General Counsel to the General Counsel

OPM 13 Special Assistant to the Director, Office of Communications

OPM 14 Senior Advisor to the Chief of Staff

OPM 15 White House Liaison to the Chief of Staff

OPM 16 Special Assistant to the Deputy Director

OPM 17 Special Counselor to the General Counsel

OPM 18 Special Assistant to the Director, Office of Communications

OPM 20 Confidential Assistant/Scheduler to the Chief of Staff

OPM 21 Coordinator, Public Liaison and Constituent Services to the Director, Office of Communications

OPM 22 Deputy Director to the Director, Office of Communications

Section 213.3393 Pension Benefit Guaranty Corporation

PBGC 3 Assistant Executive Director for Legislative Affairs to the Executive Director, Pension Benefit Guaranty Corporation

Section 213.3394 Department of Transportation

DOT 1 Special Assistant to the Secretary

DOT 25 Special Assistant to the Under Secretary for Transportation Security

DOT 60 Deputy Assistant Secretary to the Assistant Secretary for Governmental Affairs

DOT 70 Special Assistant to the Assistant Secretary for Governmental Affairs

DOT 100 Chief, Consumer Information Division to the Administrator, National Highway Traffic Safety Administration

DOT 117 Assistant for Policy to the Secretary

DOT 128 Special Assistant to the Administrator, Federal Highway Administration

DOT 141 Special Assistant to the Chief of Staff

DOT 147 Special Assistant to the Assistant to the Secretary and Director of Public Affairs

DOT 151 Assistant for Policy to the Secretary

DOT 185 Special Assistant to the Assistant Secretary for Aviation and International Affairs

DOT 192 Special Assistant to the Assistant to the Secretary and Director of Public Affairs

DOT 194 Special Assistant to the Administrator, National Highway Traffic Safety Administration

DOT 198 Special Assistant to the Chief Counsel

DOT 217 Special Assistant to the Administrator, Research and Special Programs Administration

DOT 239 Director, Office of Congressional and Public Affairs to the Maritime Administrator

DOT 243 Speechwriter to the Assistant Director for Speechwriting

DOT 254 White House Liaison to the Chief of Staff

DOT 257 Deputy Director to the Assistant to the Secretary and Director of Public Affairs

DOT 258 Associate Director for Governmental Affairs to the Assistant Secretary for Governmental Affairs

DOT 259 Senior Advisor to the Administrator, the Maritime Administration

DOT 268 Speechwriter to the Assistant Director of Speechwriting

DOT 277 Staff Assistant to the Administrator, Federal Transit Authority

DOT 279 Associate Director for Speechwriting to the Assistant to the Secretary and Director of Public Affairs

DOT 285 Special Assistant to the Administrator, National Highway Traffic Safety Administration

DOT 287 Special Assistant to the Director of Scheduling and Advance

DOT 288 Associate Director to the Assistant Secretary for Government Affairs

DOT 291 Executive Assistant to the Assistant to the Secretary and Director of Public Affairs

DOT 292 Associate Director to the Deputy Assistant Secretary for Governmental Affairs

DOT 295 Executive Assistant to the Associate Deputy Secretary of Transportation

DOT 301 Associate Director to the Assistant Secretary for Governmental Affairs

DOT 311 Scheduling/Advance Assistant to the Director for Scheduling and Advance

DOT 313 Director, Office of Public and Consumer Affairs to the Administrator, National Highway Traffic Safety Administration

DOT 324 Director for Scheduling and Advance to the Chief of Staff

DOT 330 Staff Assistant to the Administrator, Federal Highway Administration

DOT 338 Special Assistant to the Director, Office of Policy, Federal Highway Administration

DOT 339 Director of Public Affairs to the Administrator, Research and Special Programs Administration

DOT 357 Special Assistant for Scheduling and Advance to the Director for Scheduling and Advance

DOT 365 Special Assistant to the Assistant Secretary for Transportation Policy

Section 213.3395 Federal Emergency Management Agency

FEMA 2 Confidential Assistant to the Director

FEMA 4 Policy Advisor to the Division Director, Congressional and Intergovernmental Affairs

FEMA 5 Staff Assistant (Scheduling) to the Director

FEMA 6 Staff Assistant to the General Counsel

FEMA 7 Speech Writer to the Director, Public Affairs

FEMA 8 Deputy Chief of Staff/White House Liaison to the Director

FEMA 9 Special Assistant to the Chief Information Officer to the Assistant Director, Information Technology Services Directorate

FEMA 10 Legislative Branch Chief to the Director of Congressional and Intergovernmental Affairs Division

FEMA 11 Advisor for Media Affairs to the Director, Public Affairs

FEMA 12 Staff Assistant (Scheduling) to the Director

FEMA 14 Special Assistant to the Director, Human Resources Division

FEMA 16 Special Assistant to the Director for Administration/White House Liaison

FEMA 17 Assistant Division Director to the Director, Public Affairs Division

FEMA 19 Executive Assistant to the Assistant Director, Administration and Resource Planning

FEMA 20 Staff Assistant to the Assistant Director, Administration and Resource Planning

Section 213.3396 National Transportation Safety Board

NTSB 1 Senior Policy Advisor to the Chairman

NTSB 3 Special Counsel to the Chairman

NTSB 30 Director of Government and Industry Affairs to the Chairman

NTSB 31 Executive Assistant to the Chairman

NTSB 32 Special Assistant to a Board Member

NTSB 33 Director, Office of Communications to the Chairman

NTSB 34 Director, Office of Family Members to the Chairman

NTSB 102 Special Assistant to a Board Member

Section 213.3397 Federal Housing Finance Board

FHFB 1 Special Assistant to the Chairman

FHFB 5 Special Assistant to the Chairman

Senior Pay Level Positions (Above GS-15)

Section 213.3333 Federal Deposit Insurance Corporation

Chief of Staff to the Chairman

General Counsel to the Chairman

Deputy to the Chairman

Special Assistant to a Member of the Board

Section 213.3343 Farm Credit Administration

Executive Assistant to the Chairman

Executive Assistant to a Member

Executive Assistant to a Member

Director, Congressional and Public Affairs to the Chairman

Chief Operating Officer to the Chairman

Director, Office of Policy and Analysis to the Chief Operating Officer

Section 213.3357 National Credit Union Administration

Chief of Staff and Counsel to the Administrator

Director, Public and Congressional Affairs to the Administrator

Executive Assistant to a Member

Section 213.3382 National Endowment for the Arts

Executive Director, President's Committee on the Arts and Humanities to the Chairman

Section 213.3390 Export-Import Bank

Vice President, Office of Congressional and External Affairs to the President and Chairman

Vice President and Executive Assistant to the Chairman

Special Assistant and Coordinator of African Programs to the Chairman

General Counsel to the President and Chairman

Section 213.3393 Pension Benefit Guaranty Corporation

Executive Director to the Secretary of Labor

Authority: 5 U.S.C. 3301 and 3302; E.O. 10577, 3 CFR 1954-1958 Comp., p. 218.

Office of Personnel Management.
Kay Coles James,
Director.

[FR Doc. 02-24217 Filed 9-25-02; 8:45 am]

BILLING CODE 6325-38-P